DEPARTMENT OF COMMERCE

Bureau of the Census

15 CFR Part 30

[Docket Number 100318153-0154-01]

RIN Number 0607-AA50

Foreign Trade Regulations (FTR): Mandatory Automated Export System Filing for All Shipments Requiring Shipper's Export Declaration Information: Proposed Substantive Changes and Corrections

AGENCY: Bureau of the Census, Commerce Department.

ACTION: Notice of proposed rulemaking.

SUMMARY: The U.S. Census Bureau (Census Bureau) proposes to amend its regulations to reflect new export reporting requirements. Specifically, the Census Bureau is proposing to require mandatory filing of export information through the Automated Export System (AES) or through AESDirect for all shipments of used self-propelled vehicles, temporary exports and household goods. The Census Bureau is also proposing to modify the postdeparture filing program by changing the filing time frame from ten (10) calendar days to five (5) calendar days and only allowing postdeparture reporting for approved commodities. In addition to the new export reporting requirements and the modifications to the postdeparture filing program, the proposed rule would make remedial changes to the FTR to improve clarity and to correct errors. These changes are discussed in detail in the SUPPLEMENTARY INFORMATION section.

DATES: Submit written comments on or before March 22, 2011.

ADDRESSES: Please direct all written comments on this proposed rule to the Associate Director for Economic Programs, U.S. Census Bureau, Room 8H132, Washington, DC 20233. You may also submit comments, identified by RIN number 0607-AA50, to the Federal e-Rulemaking Portal: http://www.regulations.gov. All comments received are a part of the public record. No comments will be posted to http://www.regulations.gov for public viewing until after the comment period has closed. Comment will generally be posted without change. All Personal Identifying Information (for example, name, address) voluntarily submitted by the commenter may be publicly accessible. Do not submit Confidential Business Information or otherwise sensitive or protected information. The Census Bureau will accept anonymous comments (enter N/A in the required fields, if you wish to remain anonymous). You may submit attachments to electronic comments in Microsoft Word, Excel, WordPerfect, or Adobe PDF file formats only.

FOR FURTHER INFORMATION CONTACT: William G. Bostic, Jr., Assistant Director for Economic Programs, U.S. Census Bureau, Room 8K108, Washington, DC 20233-6010, by phone (301) 763-8842, by fax (301) 763-4967, or by e-mail FTD.FTR.Comments@census.gov.

SUPPLEMENTARY INFORMATION:

Background

The Census Bureau is responsible for collecting, compiling, and publishing export trade statistics for the United States under the provisions of Title 13, United States Code (U.S.C.), Chapter 9, Section 301. The AES is the primary instrument used for collecting export trade data, which is used by the Census Bureau for statistical purposes only. Through the AES, the Census Bureau collects Electronic Export Information (EEI), the electronic equivalent of the export data formerly collected on the Shipper's Export Declaration, reported pursuant to Title 15 Code of Federal Regulations (CFR) Part 30. The EEI consists of data elements set forth at 15 CFR 30.6 for an export shipment, and includes information such as the exporter's personal identifying information, which includes name, address and identification number, and detailed information concerning the exported product. Other Federal government agencies use the EEI for export control purposes to detect and prevent the export of certain items by unauthorized parties or to unauthorized destinations or end users. The EEI is exempt from public disclosure unless the Secretary of Commerce determines under the provisions of Title 13, U.S.C., Chapter 9, Section 301(g), that such exemption would be contrary to the national interest.

Program Requirements

To comply with the requirements of the Foreign Relations Authorization Act, Public Law 107-228, the Census Bureau is amending relevant sections of the FTR to reflect new export reporting requirements.

The Census Bureau is proposing to amend the following sections of the FTR:

• Revise the table of contents in § 30.28 by removing the quotations and the words by air because split shipments applies to all modes of transportation.

• Revise § 30.1(c) to add the terms and definitions for “Commercial loading document,” “Diplomatic pouch,” “Electronic CBP Form 214 Admissions (e214),” “Filer ID,” “Foreign port of unlading,” “Household goods,” “International waters,” “Issued banknote,” “Mass-market software,” “Non Vessel Operating Common Carrier (NVOCC),” “Shipping documents,” “Transshipment,” “Value,” and “Voluntary self-disclosure” to clarify the use of these terms in the FTR.

• In § 30.1(c), revise the definition for “AES downtime filing citation” to clarify that the downtime citation cannot be used when the filer's system is down or experiences delays.

• In § 30.1(c), revise the definition for “Annotation” by removing the reference to an exclusion legend and to add the word “commercial” prior to the words “loading documents.” This revision is necessary to clarify that the exclusion legend is no longer required and to note that the FTR only references commercial loading documents; therefore, the word “commercial” is added before all references to the words “loading documents.”

• In § 30.1(c), revise the definition for “Automated Export System Trade Interface Requirements (AESTIR)” to clarify that the document also includes technical requirements.

• In § 30.1(c), remove the definition for “Automated Foreign Trade Zone Reporting Program (AFTZRP)” because the program is no longer in existence. The definition for “Electronic CBP Form 214 Admissions (e214)” is added to replace the AFTZRP.

• In § 30.1(c), add the term and definition “Commercial loading document” because the FTR only references commercial loading documents. Therefore, the term and definition for “Loading document” is removed from this section

• In § 30.1(c), revise the definition for “Country of ultimate destination” to reference § 30.6(a)(5).

• In § 30.1(c), revise the definition for “End user” to clarify that the end user is the entity abroad, known at the time of export by the USPPI, who ultimately uses the exported or reexported items.

• In § 30.1(c), remove the term and definition “Export value” because this term is not used in the FTR and cite the term and definition “Value”.

• In § 30.1(c), revise the definition for “Filers” to remove the word “system” after the acronym “AES.”

• In § 30.1(c), revise the definition for “Foreign principal party in interest (FPPI)” to clarify that the FPPI is the party that purchases the goods for export.

• In § 30.1(c), revise the term and definition for “Harmonized Tariff Schedule of the United States (HTSUS)” to include the correct title and abbreviation and remove references to CBP since it is not the only agency that uses the HTSUSA.

• In § 30.1(c), revise the definition for “Manifest” by removing the reference to an exclusion legend. The USPPIs and authorized agents are no longer required to place an exclusion legend on the bill of lading, air waybill, export shipping instructions, or other commercial loading documents.

• In § 30.1(c), revise the definition for “Port of export” to clarify the port for transshipments through Canada or Mexico.

• In § 30.1(c), revise the definition for “Postdeparture filing” to clarify that only approved commodities exported by approved USPPIs can be filed postdeparture. In addition, the Postdeparture filing time frame is changed from ten (10) calendar days to five (5) calendar days for export control and enforcement purposes.

• In § 30.1(c), revise the definition for “Power of attorney” to include a reference to Appendix A.

• In § 30.1(c), revise the definition for “Shipment” to clarify that except as noted in § 30.2(a)(1)(iv), the EEI shall be filed when the value of the goods is over $2,500 per Schedule B number.

• In § 30.1(c), revise the definition for “Shipment reference number” to clarify that the reuse of the shipment reference number is prohibited.

• In § 30.1(c), revise the definition for “Shipper's Export Declaration (SED)” to clarify the date the paper SED became obsolete.

• In § 30.1(c), revise the definition for “Split shipment” to clarify that split shipments apply to all modes of transportation and that the goods must leave on the same day.

• In § 30.1(c), revise the definition for “U.S. Customs and Border Protection” to correct errors in grammar.

• In § 30.1(c), revise the definition for “Written Authorization” to include reference to Appendix A.

• In § 30.2(a)(1)(iv), add paragraphs (H) and (I) to include the new filing requirements for reporting used self-propelled vehicles and household goods. These types of shipments will be required to be filed in the AES regardless of value or country of destination. However, shipments of household goods consigned to U.S. government agencies and employees for their exclusive use are exempt from this requirement.

• In § 30.2(a)(1)(iv), revise paragraph (E) to include the exemptions for shipments to Country Group E:1 based on 15 CFR 734 and 740.

• In § 30.2(a), revise paragraph (2) to reflect the correct Web site for the Automated Export System Trade Interface Requirements document.

• Revise § 30.2(b)(3) to reflect that the AES downtime procedures cannot be used when the computer system of an AES participant is unavailable for transmission.

• In § 30.2(d), revise the introductory text to clarify that an exclusion legend is not required on the bill of lading, air waybill, export shipping instructions, or other commercial loading documents.

• Revise § 30.2(d)(2) to clarify that Puerto Rico and the U.S. Virgin Islands are not excluded from filing the EEI.

• Revise the parenthetical phrase in § 30.2(d)(4), by removing the word “by” and adding in its place the word “to.”

• In § 30.2(d), add a new paragraph (5) to include the new exclusion for goods licensed by a U.S. federal government agency where the country of ultimate destination is the United States or goods destined to international waters where the person(s) or entity assuming control of the item(s) is a citizen or permanent resident alien of the United States or a juridical entity organized under the laws of the United States or a jurisdiction within the United States

• Revise § 30.3(b)(2) to clarify that a foreign entity must be in the United States at the time goods are purchased or obtained for export in order to be listed as a USPPI.

• Revise § 30.3(b)(2)(iii) by removing the word “foreign entity” and adding in its place the word “FPPI.” This revision clarifies that the U.S. order party directly arranges for the sale and export of goods for the foreign party located abroad.

• In § 30.3(b), add paragraph (4) to include carriers as a party to the export transaction.

• Revise § 30.3(c)(1)(ii)(A) to include the required information to be provided to the authorized agent in an export transaction. This language is consistent with the requirements for providing information in a routed export transaction.

• Revise § 30.3(c)(2)(ii) to clarify that the power of attorney or written authorization comes from the USPPI in a standard transaction.

• In § 30.3(c), add paragraph (3) to clarify carrier responsibilities as it pertains to the FTR.

• Revise § 30.3(e)(1) to include the requirement for the USPPI to provide the ultimate consignee type, if known, in a routed export transaction to the authorized agent.

• Revise § 30.3(e)(2) to include the requirement that an authorized agent must provide the USPPI with the Internal Transaction Number and Date of export when the agent files the EEI in a routed transaction. In addition, if known, the agent shall provide the ultimate consignee type in the AES.

• Revise § 30.4(a)(6) to clarify that shipments where complete outbound manifests are required prior to clearing vessels going directly to the countries identified in U.S. Customs and Border Protection regulations 19 CFR 4.75(c) and aircraft going directly or indirectly to those countries must be filed predeparture.

• Revise § 30.4(b)(1) to provide the correct citation in the International Traffic in Arms Regulations for filing timeframes for United States Munitions List shipments.

• In § 30.4(b), add paragraph (3) and redesignate paragraph (3) and paragraph (4) to clarify that the filing timeframes for shipments between the United States and Puerto Rico do not apply. Shipments between the United States and Puerto Rico must file the export information and have the proof of filing citation, postdeparture filing citation, or exemption citation by the time the shipment arrives at the port of unloading.

• Revise § 30.4(b) to add paragraph (4) to include the new filing timeframe requirement for used self-propelled vehicles as defined in 19 CFR 192.1 of U.S. Customs and Border Protection regulations.

• Revise § 30.4(c) and § 30.5(c) to clarify that only approved commodities exported by approved USPPIs can be filed postdeparture. In addition, the postdeparture filing time frame has changed from ten (10) calendar days to five (5) calendar days.

• Revise § 30.4(d) to remove the reference to an exclusion legend. The USPPIs and authorized agents are no longer required to place an exclusion legend on the bill of lading, air waybill, export shipping instructions, or other commercial loading documents.

• Revise § 30.5 to clarify the postdeparture approval procedures. Certification and approval requirements were strengthened to address U.S. national security concerns and interest. Under the proposed postdeparture filing requirements, postdeparture reporting will only be permitted for commodities on the approved list for postdeparture filing. This list can be found at http://www.census.gov/aes. Any commodities not included on the approved list must be reported prior to exportation and all current USPPI's previously approved for postdeparture filing must reapply. The USPPI may apply for postdeparture filing privileges by submitting a postdeparture filing application at http://www.census.gov/aes.

• In § 30.5(c)(1), add paragraph (ix) to include that the USPPI will be denied postdeparture filing status if unable to meet the AES predeparture filing requirements.

• In § 30.5(c)(3), add paragraph (G) to clarify that the Census Bureau will revoke postdeparture privileges of an approved USPPI if it exports commodities not on the approved list.

• In § 30.5(d)(1) and (d)(2), remove the administrator code option for accessing account features in the AESDirect.

• Revise § 30.5(d)(2) to clarify that companies must immediately deactivate the username, in the AESDirect, of employee who leaves the company or is no longer an authorized user.

• Revise § 30.6(a)(1)(ii) to clarify that the USPPI does not need to own/lease the facility where the goods actually begin the journey to the port of export.

• Revise § 30.6(a)(3) to clarify that for licensed shipments to international waters, the person designated on the export license must be reported as the ultimate consignee.

• Revise § 30.6(a)(5)(i) to clarify that BIS license exceptions and non licensed shipments to international waters the filer must report the nationality of the person(s) or entity assuming control of the item(s) subject to the EAR.

• Revise § 30.6(a)(8) to clarify the carrier identification code that must be reported in the AES for vessel shipments.

• In § 30.6(a)(9), revise text to clarify that the port of export for shipments by overland transportation is where the goods cross the U.S. border into Canada or Mexico, including transshipments through Canada or Mexico. In addition, language was added to address shipment by vessel and air involving several ports of exportation.

• In § 30.6(a)(9), remove paragraphs (i) and (ii) because the content is included in the text of § 30.6(a)(9).

• In § 30.6(a)(17), revise the introductory text to clarify that the value reported in the AES must be in U.S. dollars.

• Revise § 30.6(a)(19) to clarify that the reuse of the shipment reference number is prohibited.

• Revise § 30.6(a)(23) by adding a comma and the word “authorization” after the word “permit.” This revision is to clarify that authorizations, such as validated end-users, are to be reported in the license code/license exemption code field.

• In § 30.6(b), redesignate paragraphs (1) through (3) as paragraphs (4) through (6) and add new paragraphs (1) through (3) to include the new conditional filing requirement for reporting the address of the license applicant and name and address of the end-user.

• In § 30.6(b), redesignate paragraphs (4) through (14) as paragraphs (8) through (18) and add new paragraph (7) to include the new conditional filing requirement for reporting the country of origin for goods of foreign origin.

• Revise § 30.6(b)(14)(ii) to require the transportation reference number for air shipments.

• In § 30.6(b), redesignate paragraphs (15) and (16) as paragraphs (20) and (21) and add paragraph (19) to include the new conditional filing requirement for reporting the license value.

• Redesignate §§ 30.6(c)(1) and (c)(2) as §§ 30.6(b)(22) and (23). This revision will designate the optional data elements, equipment and seal number, as conditional data elements. The revision also clarifies that the equipment number is required for containerized vessel cargo.

• In § 30.6(b) add paragraphs (24), and (24)(i) through (24)(iii) to include a new conditional filing requirement for ultimate consignee type. The three ultimate consignee types are: Reseller, Government Reseller and Government Consumer. If applicable, the ultimate consignee shall be identified according to one of the types listed above that best describes its function. If at the time of filing, the USPPI or authorized agent knows the ultimate consignee type, that information must be reported in the AES. If more than one type applies to the ultimate consignee, report the type that applies most often.

• Revise § 30.7(b) to remove the reference to an exclusion legend. The USPPIs and authorized agents are no longer required to place an exclusion legend on the bill of lading, air waybill, export shipping instructions, or other commercial loading documents.

• In § 30.8, remove the citation “§ 30.4(e)” and add in its place “§ 30.7”, which references the requirement to annotate the commercial loading documents with the proof of filing citation and exemption legend, because the incorrect citation is cited. Section 30.7 provides requirements for annotating the bill of lading, air waybill, or other commercial loading documents with the proof of filing citations, and exemption legends.

• In § 30.8(a), remove the citation “§ 30.2” and add in its place “§ 30.4(b)” because the incorrect citation is cited in the current FTR.

• In § 30.8(b), add language to reference § 30.46 which states the requirements for filing export information by pipeline carriers.

• In § 30.8(c), remove the reference to an exclusion legend. The USPPIs and authorized agents are no longer required to place an exclusion legend on the bill of lading, air waybill, export shipping instructions, or other commercial loading documents.

• Revise § 30.9(b) to clarify that failure to respond to fatal error messages prior to export of the cargo subjects the USPPI or authorized agent to penalties. The postdeparture filing time frame has also changed from ten (10) calendar days to five (5) calendar days. Also, remove the word “regulation” and add in its place “the FTR” in the second to last sentence.

• In § 30.16, revise the introductory text to spell out the acronym “EAR” and remove the word “also.”

• In § 30.16, revise paragraph (b) to include reference to 15 CFR 758.1(g), which references requirements in the EAR, and add paragraph (c) to include the requirement for placing certain export information on export control documents for shipments that are exempt from filing in the AES.

• Revise § 30.18(a) to spell out the acronym “ITAR” and to clarify that shipments licensed by the State Department that are ultimately destined to a location in the United States are not required to be filed in the AES.

• In § 30.25, add paragraph (c) to include the new filing requirements for goods rejected after entry into the United States. Those goods must be filed in the AES and the value to be reported is the declared import value.

• Redesignate § 30.26(a) as § 30.37(e) to include the exemption for reporting vessels, aircraft, cargo vans, and other carriers and containers when shipping as tools of international trade. The exemption for in-transit shipments is removed.

• Redesignate § 30.26(b) to § 30.26 and revise to correct errors in grammar.

• In § 30.28, revise the title to remove the quotation marks and the words “by air.” This section now includes all modes of transportation.

• In § 30.28, revise the introductory text to remove the words “by air,” and the word “aircraft” and adding in place of the latter the word “conveyance,” and to clarify that a split shipment must occur on the same day for all modes of transportation.

• In § 30.28(a) and (b), remove all references to the word “flight” and add in its place “conveyance.” This revision is to clarify that split shipments apply to all modes of transportation.

• Revise § 30.29(a) to clarify that the return of goods previously imported only for repair and alteration to the foreign shipper are required to be reported in the AES.

• Revise § 30.29(b)(2) to clarify the requirement to report the Schedule B number or HTSUSA classification commodity number for replacement products and remove the word “only” in the last sentence. This revision is to clarify that the value should include inland or domestic freight, insurance, and other charges to the U.S. seaport, airport, or land border port of export.

• Revise § 30.35 to clarify that exemptions from filing in the AES does not apply when a shipment falls under § 30.2(a)(1)(iv), which references the types of export shipments that must be filed, regardless of value.

• In § 30.36(b), add paragraphs (7) and (8) to include the requirement for reporting used self-propelled vehicles and household goods destined to Canada.

• In § 30.36(b), revise the introductory text to clarify that shipments destined to Canada must be filed in the same manner as all other exports when they fall under §§ 30.36(b)(1) through (7). Therefore, removing the language from paragraph (b)(2).

• In § 30.37, remove paragraphs (q) and (r). This revision removes the exemption for temporary exports. Temporary shipments of goods valued over $2,500 per Schedule B or that require a license must be filed in the AES. When reporting temporary exports report the appropriate export information code for temporary goods, such as “TE and TP”.

• Revise § 30.37 introductory text to clarify that exemptions from filing EEI do not apply if the shipment falls under § 30.2(a)(1)(iv), which references the types of export shipments that must be filed, regardless of value.

• Revise § 30.37(a) by removing the words “Except as noted in § 30.2(a)(1)(iv)” and clarify that goods that are of domestic and foreign origins with the same Schedule B number must be reported separately. In addition the reference to § 30.38 for the reporting of household goods was added.

• Revise § 30.37(g) to clarify the types of articles that are exempt when shipping to foreign libraries, government establishments, and other similar institutions.

• Redesignate §§ 30.37(s) and (t) as §§ 30.37(q) and (r).

• Revise § 30.37 by adding paragraph(s) to clarify that exports of technical data and defense service exemptions defined in 22 CFR 123.22(b)(3)(iii) are exempt from the EEI filing requirements.

• Revise § 30.38 to clarify that, regardless of value, limited reporting is required for household goods when the goods are for use by the USPPI or the USPPI's immediate family, not for sale, and shipped under a bill of lading or an air waybill. In addition, the revision removed the exemption for limited reporting of vehicles because full reporting is required for used self-propelled vehicles.

• In § 30.39 and § 30.40, revise the introductory text to clarify that the exemptions for the U.S. Armed Services and U.S. government agencies and employees does not apply if the shipment falls under § 30.2(a)(1)(iv), which references the types of export shipments that must be filed, regardless of value.

• In § 30.40, remove paragraph (d) because § 30.37(g) now incorporates the exemption described in this paragraph.

• In § 30.45(a), revise the introductory text by removing the word “shall” from the first sentence and adding in its place the word “may” and removing references to the exclusion legend. This revision is necessary to clarify that the exclusion legend is no longer required to be noted on the commercial loading documents.

• In § 30.45(a)(2), remove the word “unladed” and adding in its place “unladen.” This section is also revised to require the manifest to be filed with the CBP Port Director at the port of exit rather than the port where the goods are laden.

• In § 30.45(a)(4), remove reference to the exclusion legend because USPPIs and authorized agents are no longer required to place this citation on the bill of lading, air waybill, export shipping instructions, or other commercial loading documents.

• In § 30.45(c), revise the title to remove the quotation marks and the words “by air” since this requirement now pertains to all modes of transportation. This section is also revised to clarify that a split shipment must be divided by the carrier.

• In § 30.45(d), remove the words “bill of lading” in the last sentence and add in its place the words “commercial loading document.”

• Revise § 30.45(f)(1) by adding the words “Except as noted in § 30.4(b)(2)” to clarify that proof of filing citations and exemption legends are required for shipments between the United States and Puerto Rico when the carrier reaches the port of unloading.

• Revise § 30.45(f)(1) by removing the references to the SED and the exclusion legend. The SED has been replaced by the EEI, and the exclusion legend is no longer required to be placed on the bill of lading, air waybill, export shipping instructions, or other commercial loading documents.

• In § 30.45(f), remove paragraphs (3) and (4) because requirements for truck and rail shipments will be added to §§ 30.45(f)(1) and (2).

• In § 30.46 and § 30.47, remove all references to the exclusion legend because the USPPIs or authorized agents are no longer required to place the exclusion legend on the bill of lading, air waybill, export shipping instructions, or other commercial loading documents.

• In § 30.47(a), remove the word “business” and add in its place the word “calendar.” This is to clarify that the carrier has up to four calendar days after clearance or departure of the carrier to file manifest and all required filing citations and/or exemption legends.

• In § 30.47(a)(2), remove the words “fifteenth business” and add in its place the word “fourth calendar.” This is to clarify that the filing citations and/or exemption legends shall be filed with CBP no later than the fourth calendar day after departure.

• Revise § 30.47(a)(3) to clarify that a list of filing citations and/or exemption legends must be presented for carriers under bond on an incomplete manifest upon request by CBP.

• In § 30.50(b)(5), remove the words “Automated Foreign Trade Zone Reporting Program (AFTZRP)” and add in their place “Electronic CBP Form 214 Admissions (e214)” since the AFTZRP was eliminated March 1, 2009.

• Revise § 30.52 to clarify the statistical filing requirements for Foreign Trade Zone shipments via the e214 or paper 214A.

• In § 30.54(b), remove the second instance of the word “region” and add in its place the word “country” in the last sentence. This is to clarify that the region of origin code replaces the country of origin code on the CBP Form 7501.C

• In § 30.60(c)(4), add the words “and foreign companies” after the word “governments” to clarify that neither foreign governments nor entities may have access to the EEI.

• Revise § 30.60(c)(4)(d) to remove the reference to an exclusion legend. The USPPIs and authorized agents are no longer required to place an exclusion legend on the bill of lading, air waybill, export shipping instructions, or other commercial loading documents.

In § 30.71(b), revise paragraph (1), redesignate paragraphs (2) and (3) as paragraphs (3) and (4) and add a new paragraph (2). This revision is to clarify that the civil penalties imposed for delayed filings and failures to file are different. For delayed filings, the penalty will not exceed $1,100 per day of delinquency, and no more than $10,000 per violation; whereas, failures to file, the penalty will not exceed $10,000 per violation.

• In § 30.74(c)(3)(iv), remove the punctuation and the word “and” at the end of the sentence because an additional paragraph is added.

• In § 30.74(c)(3)(vi), add punctuation and the word “and” at the end of the sentence to clarify that when submitting a voluntary self-disclosure, all items listed in § 30.74(c)(3) must be included in the letter submitted to the Census Bureau.

• In § 30.74(c)(3), add paragraphs (vi) and (vii) to clarify that, when submitting a voluntary self-disclosure, the person must indicate the corrective measures taken to avoid the violation in the future and the ITNs of the missed and/or corrected shipments.

• Revise § 30.74(c)(5) to include the Foreign Trade Division Web site regarding further instructions for submitting voluntary self-disclosures to the Census Bureau.

• Revise Appendices B through F to reflect all proposed changes to the FTR discussed in this part.

Rulemaking Requirements

Regulatory Flexibility Act

The Chief Counsel for Regulation of the Department of Commerce certified to the Chief Counsel for Advocacy of the Small Business Administration (SBA) that this rule will not have a significant impact on a substantial number of small entities. This action requires that USPPIs or authorized agents in the United States file export information to the AES for all shipments where an EEI record is required under the FTR.

The SBA's table of size standards indicates that businesses that are the USPPI or authorized agent and file export information are considered small businesses if they employ less than 500 people. Based on year 2008 Profile of U.S. Exporting Companies, the Census Bureau estimates that there are 281,000 USPPIs that are considered small entities under the Small Business Act definition. Over 90 percent of USPPIs use an authorized agent to file export documentation. An estimate of the number of authorized agents is not known.

The Census Bureau anticipates that the new requirement would not significantly affect the small businesses that file through the AES. The new reporting requirements would not affect a substantial number of small entities because more than 90 percent of USPPIs that are considered small entities use an authorized agent to file export documentation. Also, while this regulation would likely affect a substantial number of agents that are small entities it is not likely that the effect will be significant. The majority of agents require use of a computer to perform routine tasks, such as filing the AES. These agents are unlikely to be significantly affected by these new requirements, as they currently possess the technology and equipment to submit the information through the AES. The Census Bureau has provided a free Internet-based system, AESDirect, especially for small businesses to submit their export information electronically. It would not be necessary for small businesses to purchase software for this task. For these reasons, if this proposed rule is adopted, this rule would not have a significant economic impact on a substantial number of small entities.

Executive Orders

This rule has been determined to be not significant for purposes of Executive Order 12866. It has been determined that this rule does not contain policies with federalism implications as that term is defined under Executive Order 13132.

Paperwork Reduction Act

Notwithstanding any other provision of law, no person is required to respond to, nor shall a person be subject to a penalty for failure to comply with, a collection of information subject to the requirements of the Paperwork Reduction Act (PRA), unless that collection of information displays a current, valid Office of Management and Budget (OMB) control number. This rule contains a collection-of-information subject to the requirements of the PRA (44 U.S.C. 3501 et seq.) and that has been approved under OMB control number 0607-0152.

List of Subjects in 15 CFR Part 30

Economic statistics, Exports, Foreign trade, Reporting and recordkeeping requirements.

For the reasons set out in the preamble, the Census Bureau is proposing to amend Title 15, CFR part 30, as follows:

PART 30—FOREIGN TRADE REGULATIONS

Subpart A—General Requirements

1. The authority citation for Part 30 continues to read as follows:

Authority: 5 U.S.C. 301; 13 U.S.C. 301-307; Reorganization Plan 5 of 1990 (3 CFR 1949-1953 Comp., p. 1004); Department of Commerce Organization Order No. 35-2A, July 22, 1987, as amended, and No. 35-2B, December 20, 1996, as amended; and Public Law 107-228, 116 Stat. 1350.

2. Amend § 30.1(c) by:

a. Revising the terms and definitions for “AES downtime filing citation,” “Annotation,” “Automated Export System Trade Interface Requirements (AESTIR),” “Country of ultimate destination,” “Dun & Bradstreet Number (DUNS),” “End user,” “Filers,” “Foreign principal party in interest (FPPI),” “Harmonized Tariff Schedule of the United States (HTSUS),” “Manifest,” “Method of transportation,” “Port of export,” “Postdeparture filing,” “Power of attorney,” “Shipment,” “Shipment reference number,” “Shipper's Export Declaration (SED),” “Split shipment,” “Ultimate consignee,” “U.S. Customs and Border Protection (CBP),” and “Written authorization;” and

b. Removing the definitions for “Automated Foreign Trade Zone Reporting Program (AFTZRP),” “Loading document,” “Export value;” and

c. Adding alphabetically the definitions for “Commercial loading document,” “Diplomatic pouch,” “Electronic CBP Form 214 Admissions (e214),” “Filer ID,” “Foreign port of unlading,” “Household goods,” “International waters,” “Issued banknote,” “Mass-market software,” “Non Vessel Operating Common Carrier (NVOCC),” “Shipping documents,” “Transshipment,” “Value,” and “Voluntary Self-Disclosure (VSD)”

The revisions and additions read as follows:

§ 30.1 Purpose and Definitions.

* * * * *

(c) * * *

AES downtime filing citation. A statement used in place of a proof of filing citation when the AES or AESDirect computer systems experience a major failure. The citation must appear on the bill of lading, air waybill, export shipping instructions, or other commercial loading documents. The downtime filing citation is not to be used when the filer's system is down or experiencing delays.

* * * * *

Annotation. An explanatory note (e.g., proof of filing citation, postdeparture filing citation, AES downtime filing citation, or exemption legend) placed on the bill of lading, air waybill, export shipping instructions, or other commercial loading document.

* * * * *

Automated Export System Trade Interface Requirements (AESTIR). The document that describes the technical and operational requirements of the AES. The AESTIR presents record formats and other reference information used in the AES.

* * * * *

Commercial loading document. A document that establishes the terms of a contract between a shipper and a transportation company under which freight is to be moved between points for a specific charge. It is usually prepared by the shipper or the shipper's agent and actuated by the carrier and serves as a document of title, a contract of carriage, and a receipt for goods. Examples of commercial loading documents include the air waybill, inland bill of lading, ocean bill of lading, and through bill of lading.

* * * * *

Country of ultimate destination. The country where the goods are to be consumed, further processed, stored, or manufactured, as known to the USPPI at the time of export. (See § 30.6(a)(5)).

* * * * *

Diplomatic pouch. Any properly identified and sealed pouch, package, envelope, bag, or other container that is used to transport official correspondence, documents, and articles intended for official use, between Embassies, legations, or consulates, and the foreign office of any government.

* * * * *

Electronic CBP Form 214 Admissions (e214). A web-based system that allows importers, brokers and zone operators to report import data electronically via CBP's Automated Broker Interface system for merchandise being admitted into a Foreign Trade Zone. The e214 is the electronic system that replaced the Census Bureau's Automated Foreign Trade Zone Reporting Program.

* * * * *

End user. The entity abroad, known at the time of export by the USPPI, which ultimately uses the exported or reexported items. The end user is not an authorized agent or intermediary, but may be the FPPI or ultimate consignee.

* * * * *

Filers. Those USPPIs or authorized agents (of either the USPPI or the FPPI) who have been approved to file EEI directly in the AES or AESDirect Internet application.

Filer ID. The Employer Identification Number or Dun & Bradstreet Number of the company or individual filing the export information in the Automated Export System.

* * * * *

Foreign port of unlading. The port in the foreign country where the goods are removed from the exporting carrier. The foreign port does not have to be located in the country of destination. The foreign port of unlading shall be reported in terms of Schedule K, “Classification of CBP Foreign Ports by Geographic Trade Area and Country.”

Foreign Principal Party in Interest (FPPI). The party abroad who purchases the goods for export. This party may be the Ultimate Consignee.

* * * * *

Harmonized Tariff Schedule of the United States Annotated (HTSUSA). An organized listing of goods and their duty rates, developed by the U.S. International Trade Commission, as the basis for classifying imported and exported products, and also providing statistical information about imports and exports.

Household goods. Usual and reasonable kinds and quantities of furniture, clothing and personal adornments necessary and appropriate for use by the USPPI or the USPPIs immediate family.

* * * * *

International waters. Waters located outside the U.S. territorial sea, which extends 12 nautical miles measured from the baselines of the United States, and outside the territory of any foreign country, including the territorial waters thereof. Note that vessels, platforms, buoys, undersea systems, and other similar structures that are located in international waters, but are attached permanently or temporarily to a country's continental shelf, are considered to be within the territory of that country.

* * * * *

Issued banknote. A promissory note intended to circulate as money, usually printed on paper or plastic, issued by a bank with a specific denomination, payable to an individual, entity or the bearer.

* * * * *

Manifest. A collection of documents, including forms, such as the cargo declaration and annotated bills of lading, that lists and describes the cargo contents of a carrier, container, or warehouse. Carriers required to file manifests with CBP Port Director must include an AES filing citation, or exemption legend for all cargo being transported.

* * * * *

Mass-market software. Software that is produced in large numbers and made available to the public. It does not include software that is customized for a specific user.

* * * * *

Method of transportation. The method by which goods arrive in or are exported from the United States by way of seaports, airports, or land border crossing points. Methods of transportation include vessel, air, truck, rail, mail or other.

* * * * *

Non Vessel Operating Common Carrier (NVOCC). An individual or entity who does not own or operate the carrying ship, but who contracts with a shipping line for the carriage of the goods to the ultimate consignee.

* * * * *

Port of export. The port of export is the U.S. Customs and Border Protection seaport or airport where the goods are loaded on the carrier that is taking the goods out of the United States, or the CBP port where exports by overland transportation cross the U.S. border into Canada or Mexico. For goods loaded aboard a carrier (aircraft or vessel) where the conveyance stops at several ports before clearing to the foreign country, the port of export is the first port where the goods were loaded on the original conveyance. For goods off-loaded from the original conveyance to another conveyance (even if the aircraft or vessel belongs to the same carrier) at any of the ports, the port where the goods were loaded on the last conveyance before going foreign is the port of export. The port of export shall be reported in terms of Schedule D, “Classification of CBP Districts and Ports.” Use port code 8000 for shipments by mail.

* * * * *

Postdeparture filing. The privilege granted to approved USPPIs for their EEI to be filed up to five calendar days from the date of export. Postdeparture filing can only be used for an approved list of commodities. This list can be found at http://www.census.gov/aes.

* * * * *

Power of attorney. A legal authorization, in writing, from a USPPI or FPPI stating that the agent has authority to act as the principal party's true and lawful agent for purposes of preparing and filing the EEI in accordance with the laws and regulations of the United States. (See Appendix A of this part.)

* * * * *

Shipment. All goods being sent from one USPPI to one consignee located in a single country of destination on a single conveyance and on the same day. Except as noted in § 30.2(a)(1)(iv), the EEI shall be filed when the value of the goods is over $2,500 per Schedule B number or HTSUSA commodity classification code.

Shipment reference number. A unique identification number assigned to the shipment by the filer for reference purposes. The reuse of the shipment reference number is prohibited.

Shipper's Export Declaration (SED). The Department of Commerce paper form used under the Foreign Trade Statistics Regulations to collect information from an entity exporting from the United States. This form was used for compiling the official U.S. export statistics for the United States and for export control purposes. The SED became obsolete on October 1, 2008, with the implementation of the Foreign Trade Regulations (FTR) and has been superseded by the EEI filed to the AES or through the AESDirect.

Shipping documents. Documents that include but are not limited to commercial invoices, export shipping instructions, packing lists, bill of ladings and air waybills.

* * * * *

Split shipment. A shipment covered by a single EEI transmission booked for export on one conveyance, but divided by the exporting carrier and sent on two or more conveyances of the same carrier on the same day.

* * * * *

Transshipment. The transfer of merchandise from the country or countries of origin through an intermediary country or countries to the country of ultimate destination.

* * * * *

U.S. Customs and Border Protection (CBP). The unified border agency within the Department of Homeland Security (DHS) charged with the management, control, and protection of our Nation's borders at and between the official ports of entry to the United States. CBP is charged with keeping terrorist and terrorist weapons from entering the country and enforcing customs, immigration, agricultural and countless other laws of the United States.

* * * * *

Value. The selling price (or the cost if the goods are not sold) in US dollars, plus inland or domestic freight, insurance, and other charges to the U.S. seaport, airport, or land border port of export. Cost of goods is the sum of expenses incurred in the USPPI's acquisition or production of the goods. (See § 30.6(a)(17)).

* * * * *

Voluntary Self-Disclosure (VSD). A narrative account with supporting documentation that sufficiently describes suspected violations of the FTR. A VSD reflects due diligence in detecting, and correcting potential violation(s) when required information was not reported or when incorrect information was provided that violates the FTR.

* * * * *

Written authorization. A legal authorization, in writing, by the USPPI or FPPI stating that the agent has authority to act as the USPPI's or FPPI's true and lawful agent for purposes of preparing and filing the EEI in accordance with the laws and regulations of the United States. (See Appendix A of this part.)

3. Amend § 30.2 by revising paragraphs (a)(1)(iv)(E), (a)(2), (b)(3), paragraph (d) introductory text, paragraphs (d)(2) and (d)(4); and adding paragraphs (a)(1)(iv)(H), (a)(1)(iv)(I) and (d)(5) to read as follows:

§ 30.2 General requirements for filing Electronic Export Information (EEI).

(a) * * *

(1) * * *

(iv) * * *

(E) Destined for a country listed in Country Group E:1 as set forth in Supplement 1 of 15 CFR 740, unless the shipment is exempt from filing requirements by 15 CFR 734 or 740.

* * * * *

(H) Used self-propelled vehicles as defined in 19 CFR 192.1 of U.S. Customs and Border Protection regulations.

(I) Household goods, unless the shipment is consigned to U.S. government agencies and employees for their exclusive use.

(2) Filing methods. The USPPI has four means for filing EEI: use AESDirect; develop AES software using the AESTIR (see http://www.customs.gov/xp/cgov/trade/automated/aes/tech_docs/); purchase software developed by certified vendors using the AESTIR; or use an authorized agent. An FPPI can only use an authorized agent in a routed export transaction.

(b) * * *

(3) The AES downtime procedures provide uniform instructions for processing export transactions when the government's AES or AESDirect is unavailable for transmission. (See § 30.4(b)(1) and § 30.4(b)(3).)

* * * * *

(d) Exclusions from filing EEI. The following types of transactions are outside the scope of this part and shall be excluded from EEI filing. Notation on the bill of lading, air waybill, export shipping instructions or other commercial loading documents is not required.

* * * * *

(2) Except Puerto Rico and the U.S. Virgin Islands, goods shipped from the U.S. territories and goods shipped between the United States and these territories do not require EEI filing. However, goods transiting U.S. territories to foreign destinations require EEI filing.

* * * * *

(4) Goods shipped to Guantanamo Bay Naval Base in Cuba from the United States, Puerto Rico, or the U.S. Virgin Islands and from Guantanamo Bay Naval Base to the United States, Puerto Rico, or the U.S. Virgin Islands. (See § 30.39 for filing requirements for shipments exported to the U.S. Armed Services.)

(5) Goods licensed by a U.S. federal government agency where the country of ultimate destination is the United States or goods destined to international waters where the person(s) or entity assuming control of the item(s) is a citizen or permanent resident alien of the United States or a juridical entity organized under the laws of the United States or a jurisdiction within the United States.

* * * * *

4. Amend § 30.3 by revising paragraphs (b)(2), (b)(2)(iii), (c)(1)(ii)(A), (c)(2)(ii), (e)(1)(xii) and (e)(2); and adding paragraphs (b)(4) and (c)(3) to read as follows: § 30.3 Electronic Export Information filer requirements, parties to export transactions, and responsibilities of parties to export transactions.

* * * * *

(b) * * *

(2) USPPI. For purposes of filing EEI, the USPPI is the person or legal entity in the United States that receives the primary benefit, monetary or otherwise, from the transaction. Generally, that person or entity is the U.S. seller, manufacturer, order party, or foreign entity if in the United States at the time goods are purchased or obtained for export. The foreign entity shall be listed as the USPPI if it is in the United States when the items are purchased or obtained for export. The foreign entity shall then follow the provisions for filing the EEI specified in § 30.3 and § 30.6 pertaining to the USPPI.

* * * * *

(iii) If a U.S. order party directly arranges for the sale and export of goods to the FPPI, the U.S. order party shall be listed as the USPPI in the EEI.

* * * * *

(4) Carrier. A carrier is an individual or legal entity in the business of transporting passengers or goods. Airlines, trucking companies, railroad companies, shipping lines, pipeline companies, and slot charterers are all examples of carriers.

(c) * * *

(1) * * *

(ii) * * *

(A) Providing the authorized agent with the following information to assist in preparing the EEI:

(1) Name and address of the USPPI.

(2) USPPI's EIN.

(3) State of origin (State).

(4) FTZ if applicable.

(5) Commercial description of commodities.

(6) Origin of goods indicator: Domestic (D) or Foreign (F).

(7) Schedule B number or HTSUSA, Classification Commodity Code.

(8) Quantities/units of measure.

(9) Value.

(10) Export Control Classification Number (ECCN) or sufficient technical information to determine the ECCN if 15 CFR 758.1(g) requires that an ECCN be entered.

(11) All licensing information necessary to file the EEI for commodities where the Department of State, the Department of Commerce, or other U.S. government agency issues a license for the commodities being exported, or the merchandise is being exported under a license exemption or exception.

(12) Ultimate consignee type, if known.

* * * * *

(2) * * *

(ii) Obtaining a power of attorney or written authorization from the USPPI to file the EEI.

* * * * *

(3) Carrier responsibilities.

(i) The carrier must not load or move cargo unless the required documentation, from the USPPI or authorized agent, contains the required AES proof of filing, postdeparture, downtime, or exemption citations. This information must be cited on the first page of the bill of lading, air waybill, or other commercial loading documents.

(ii) The carrier must annotate the required AES proof of filing, postdeparture, downtime, or exemption citations on the carrier's outbound manifest when required.

(iii) The carrier is responsible for presenting the required AES proof of filing, postdeparture, downtime, or exemption citations to CBP Port Director at the port of export as stated in Subpart E of this part. Such presentation shall be without material change or amendment of the proof of filing citation, exemption legend or postdeparture filing citation.

(iv) Except as provided in § 30.28, when a carrier identifies that a portion of the goods covered by a single EEI transaction has not been exported on the intended conveyance, the carrier shall notify the U.S. Customs and Border Protection Port Director at the Port of exit immediately and amend the manifest. The carrier shall notify the USPPI or the authorized agent of changes to the commodity data, and the USPPI or the authorized agent shall electronically transmit the corrections, cancellations, or amendments as soon as the corrections are known in accordance with § 30.9.

(v) Retain documents pertaining to the export shipment as specified in § 30.10.

* * * * *

(e) * * *

(1) * * *

(xii) Ultimate consignee type, if known.

* * * * *

(2) Authorized agent responsibilities. In a routed export transaction, if an authorized agent is preparing and filing the EEI on behalf of the FPPI, the authorized agent must obtain a power of attorney or written authorization from the FPPI and prepare and file the EEI based on information obtained from the USPPI or other parties involved in the transaction. The authorized agent shall be responsible for filing the EEI accurately and timely in accordance with the FTR. Upon request, the authorized agent will provide the USPPI with a copy of the power of attorney or written authorization from the FPPI. The authorized agent shall also retain documentation to support the EEI reported to the AES. The agent shall upon request, provide the USPPI with the Internal Transaction Number, date of export, and the data elements in paragraphs (e)(1)(i) through (xii) of this section as submitted to the AES. The authorized agent shall provide the following export information to the AES:

(i) Date of export.

(ii) Transportation Reference Number.

(iii) Ultimate consignee.

(iv) Intermediate consignee, if applicable.

(v) Authorized agent name and address.

(vi) EIN, or DUNS number of the authorized agent.

(vii) Country of ultimate destination.

(viii) Method of transportation.

(ix) Carrier identification and conveyance name.

(x) Port of export.

(xi) Foreign port of unloading.

(xii) Shipping weight.

(xiii) ECCN if 15 CFR 758.1(g) requires that an ECCN be entered.

(xiv) License information.

(xv) Ultimate consignee type, if known.

Note to Paragraph (e)(2) of this section: For items in paragraphs (e)(2)(xiii) and (xiv) of this section, where the FPPI has assumed responsibility for determining and obtaining license authority, see requirements set forth in 15 CFR 758.3 of the EAR.

* * * * *

5. Amend § 30.4 by revising paragraphs (a)(6), (b)(1), (b)(2) introductory text, (c), and (d), redesignating paragraph (b)(3) as (b)(4) and adding paragraphs (b)(3) and (b)(5) to read as follows:

§ 30.4 Electronic Export Information filing procedures, deadlines, and certification statements.

* * * * *

(a) * * *

(6) Shipments where complete outbound manifests are required prior to clearing vessels going directly to the countries identified in U.S. Customs and Border Protection regulations 19 CFR 4.75(c) and aircraft going directly or indirectly to those countries. (See U.S. Customs and Border Protection regulation 19 CFR 122.74(b)(2));

(b) * * *

(1) For USML shipments, refer to the ITAR (22 CFR 123.22(b)(1)) for specific requirements concerning predeparture filing timeframes. In addition, if a filer is unable to acquire an ITN because the AES is not operating, the filer shall not export until the AES is operating and an ITN is acquired.

(2) For non-USML shipments, except shipments between the United States and Puerto Rico, file the EEI and provide the ITN as follows (See § 30.4(b)(3), filing timeframes for shipments between the United States and Puerto Rico):

* * * * *

(3) For shipments between the United States and Puerto Rico, the AES proof of filing citation, postdeparture filing citation, or exemption citation must be presented to the carrier by the time the shipment arrives at the port of unloading.

* * * * *

(5) For used self-propelled vehicles as defined in 19 CFR 192.1 of U.S. Customs and Border Protection regulations, the USPPI or the authorized agent shall file the EEI as required by § 30.6 and provide the filing citation to the exporting carrier at least 72 hours prior to export.

(c) EEI transmitted postdeparture. Postdeparture filing is only available for approved USPPIs and provides for the electronic filing of the data elements required by § 30.6 no later than five (5) calendar days from the date of exportation. Postdeparture filing can only be used for an approved list of commodities. This list can be found at http://www.census.gov/aes. For U.S. principal parties in interest approved for postdeparture filing, all shipments containing only approved commodities (other than those for which predeparture filing is specifically required), by all methods of transportation, may be exported with the appropriate postdeparture filing citation and the EEI must be filed within five (5) calendar days from the date of export. Certified AES authorized agents or service centers may transmit information postdeparture on behalf of USPPIs approved for postdeparture filing, or the approved USPPI may transmit the data postdeparture itself.

(d) Proof of filing citation and exemption legend. The USPPI or the authorized agent shall provide the exporting carrier with the proof of filing citation and exemption legends as described in § 30.7.

6. Amend § 30.5 by revising paragraph (c) introductory text, paragraph (d)(1) and (d)(2); and adding paragraphs (c)(1)(ix) and (c)(3)(G) to read as follows:

§ 30.5 Electronic Export Information filing application and certification processes and standards.

* * * * *

(c) Postdeparture filing approval process. Postdeparture filing is a privilege granted to approved USPPIs for their EEI to be filed up to five (5) calendar days from the date of export. Postdeparture filing can only be used for an approved list of commodities. This list can be found at http://www.census.gov/aes. The USPPI or its authorized agent may not transmit EEI postdeparture for commodities not found on the approved list of commodities. The USPPI may apply for postdeparture filing privileges by submitting a postdeparture filing application at http://www.census.gov/aes. An authorized agent may not apply on behalf of a USPPI. The Census Bureau will distribute the application to CBP and the other federal government partnership agencies participating in the AES postdeparture filing review process. Failure to meet the standards of the Census Bureau, CBP or any of the partnership agencies is reason for denial of the AES applicant for postdeparture filing privileges. Each partnership agency will develop its own internal postdeparture filing acceptance standards, and each agency will notify the Census Bureau of the USPPI's success or failure to meet that agency's acceptance standards. Any partnership agency may require additional information from USPPIs that are applying for postdeparture filing. The Census Bureau will notify the USPPI of the decision to either deny or approve its application for postdeparture filing privileges within thirty (30) calendar days of receipt of the postdeparture filing application by the Census Bureau, or if a decision cannot be reached at that time, the USPPI will be notified of an extension for a final decision as soon as possible after the thirty (30) calendar days.

(1) * * *

(ix) The USPPI fails to demonstrate the ability to meet the AES predeparture filing requirements.

* * * * *

(3) * * *

(G) The USPPI or its authorized agent files postdeparture for commodities that are not on the approved list. See http://www.census.gov/aes for the list of approved commodities.

* * * * *

(d) * * *

(1) AESDirect user names and passwords are to be kept secure by the account administrator and not disclosed to any unauthorized user or any persons outside the registered company.

(2) Registered companies are responsible for those persons having user name and password. If an employee with a user name and password leaves the company or otherwise is no longer an authorized user, the company shall immediately deactivate that username in the system to ensure the integrity and confidentiality of Title 13 data.

* * * * *

7. Amend § 30.6 as follows:

a. Revise paragraphs (a)(1)(ii), (a)(3), (a)(5)(i), (a)(8), (a)(9), (a)(17) introductory text, (a)(19), and (a)(23);

b. Revise paragraph (b);

c. Add paragraphs (b)(1), (b)(2), (b)(3), (b)(7), (b)(19), (b)(22), (b)(23), and (b)(24); and

d. Remove paragraphs (c)(1) and (c)(2):

§ 30.6 Electronic Export Information data elements.

* * * * *

(a) * * *

(1) * * *

(ii) Address of the USPPI. In all EEI filings, the USPPI shall report the address or location (no post office box number) from which the goods actually begin the journey to the port of export even if the USPPI does not own/lease the facility. For example, the EEI covering goods laden aboard a truck at a warehouse in Georgia for transport to Florida for loading onto a vessel for export to a foreign country shall show the address of the warehouse in Georgia. For shipments with multiple origins, report the address from which the commodity with the greatest value begins its export journey. If such information is not known, report the address in the state where the commodities are consolidated for export.

* * * * *

(3) Ultimate consignee. The ultimate consignee is the person, party, or designee that is located abroad and actually receives the export shipment. The name and address of the ultimate consignee, whether by sale in the United States or abroad or by consignment, shall be reported in the EEI. The ultimate consignee as known at the time of export shall be reported. For shipments requiring an export license including shipments to international waters, the ultimate consignee reported in the AES shall be the person so designated on the export license or authorized to be the ultimate consignee under the applicable license exemption or exception in conformance with the EAR or ITAR, as applicable. For goods sold en route, report the appropriate “To be Sold En Route” indicator in the EEI, and report corrected information as soon as it is known (see § 30.9 for procedures on correcting AES information).

* * * * *

(5) * * *

(i) Shipments under an export license, license exception or license exemption. For shipments, including those to international waters, under an export license or license exemption issued by the Department of State, DDTC or export license or license exception issued by the Department of Commerce, BIS, the country of ultimate destination shall conform to the country of ultimate destination as shown on the license. In the case of a Department of State license, the country of ultimate destination is the country specified with respect to the end user. For goods licensed by other government agencies refer to their specific requirements concerning providing country of destination information.

* * * * *

(8) Carrier identification. The carrier identification is the Standard Carrier Alpha Code (SCAC) for vessel, rail, and truck shipments or the International Air Transport Association (IATA) code for air shipments. The carrier identification specifies the carrier that transports the goods out of the United States. The carrier transporting the goods to the port of export and the carrier transporting the goods out of the United States may be different. For vessel shipments, report the carrier identification code of the party whose booking number was reported in the AES. For transshipments through Canada, Mexico, or another foreign country, the carrier identification is that of the carrier that transports the goods out of the United States. For other valid methods of transportation, including mail, fixed modes (pipeline), passenger, and hand carried, the carrier identification is not required. The National Motor Freight Traffic Association (NMFTA) issues and maintains the SCAC. (See http://www.nmfta.org.) The IATA issues and maintains the IATA codes. (See http://www.census.gov/trade for a list of IATA codes.)

(9) Port of export. The port of export is the U.S. Customs and Border Protection seaport or airport where the goods are loaded on the carrier that is taking the goods out of the United States, or the CBP port where exports by overland transportation cross the U.S. border into Canada or Mexico. For goods loaded aboard a carrier (aircraft or vessel) where the conveyance stops at several ports before clearing to the foreign country, the port of export is the first port where the goods were loaded on the original conveyance. For goods off-loaded from the original conveyance to another conveyance (even if the aircraft or vessel belongs to the same carrier) at any of the ports, the port where the goods were loaded on the last conveyance before going foreign is the port of export. The port of export shall be reported in terms of Schedule D, “Classification of CBP Districts and Ports.” Use port code 8000 for shipments by mail.

* * * * *

(17) Value. In general, the value to be reported in the EEI shall be the value of the goods at the U.S. port of export in U.S. dollars. The value shall be the selling price (or the cost, if the goods are not sold), plus inland or domestic freight, insurance, and other charges to the U.S. seaport, airport, or land border port of export. Cost of goods is the sum of expenses incurred in the USPPI's acquisition or production of the goods. Report the value to the nearest dollar, omit cents. Fractions of a dollar less than 50 cents should be ignored, and fractions of 50 cents or more should be rounded up to the next dollar.

* * * * *

(19) Shipment reference number. A unique identification number assigned by the filer that allows for the identification of the shipment in the filer's system. The reuse of the shipment reference number is prohibited.

* * * * *

(23) License code/license exemption code. The code that identifies the commodity as having a federal government agency requirement for a license, permit, authorization, license exception or exemption or that no license is required.

(b) Conditional data elements are as follows: (1) Address of license applicant. Report the address of the applicant shown on the export license, if different from the USPPI.

(2) Name of the end user. Report the name of the end user, if known.

(3) Address of the end user. Report the address or location (no post office box number) of the reported end user.

(4) Authorized agent and authorized agent identification. If an authorized agent is used to prepare and file the EEI, the following information shall be provided to the AES:

(i) Authorized agent's identification number. Report the authorized agent's own EIN, or DUNS in the EEI for the first shipment and for each subsequent shipment. Use of another company's or individual's EIN or other identification number is prohibited. The party ID type (E = EIN, D = DUNS, etc.) shall be identified.

(ii) Name of the authorized agent. Report the name of the authorized agent. The authorized agent is that person or entity in the United States that is authorized by the USPPI or the FPPI to prepare and file the EEI or the person or entity, if any, named on the export license. (See § 30.3 for details on the specific reporting responsibilities of authorized agents and Subpart B of this part for export control licensing requirements for authorized agents.)

(iii) Address of the authorized agent. Report the address or location (no post office box number) of the authorized agent. The authorized agent's address shall be reported with the initial shipment. Subsequent shipments may be identified by the agent's identification number.

(iv) Contact information. Report the contact name and telephone number.

(5) Intermediate consignee. Report the name and address of the intermediate consignee (if any). The intermediate consignee acts in a foreign country as an agent for the principal party in interest or the ultimate consignee for the purpose of effecting delivery of the export shipment to the ultimate consignee. The intermediate consignee is the person named as such on the export license or authorized to act as such under the applicable general license and in conformity with the EAR.

(6) FTZ identifier. If goods are removed from a FTZ and not entered for consumption, report the FTZ identifier. This is the unique identifier assigned by the Foreign Trade Zone Board that identifies the FTZ, subzone or site from which goods are withdrawn for export.

(7) Country of origin. If the goods exported are of foreign origin and have undergone no change in form or condition or enhancement in value by further manufacture in the United States, U.S. FTZs, Puerto Rico, or the U.S. Virgin Islands, report the foreign country in which the commodities were grown, produced, manufactured, or substantially transformed. For commodities with multiple origins, report the foreign country of the commodity with the greatest value. If the USPPI does not know the foreign country where the goods originated from, the country of origin to be shown is the last foreign country, as known to the USPPI at the time of shipment from the United States, from which the goods were shipped in their present form. Report the country of origin using the code issued by the International Standards Organization.

(8) Foreign port of unlading. The foreign port of unlading is the foreign port in the country where the goods are removed from the exporting carrier. The foreign port does not have to be located in the country of destination. For exports by sea to foreign countries, not including Puerto Rico, the foreign port of unlading is the code in terms of Schedule K, Classification of Foreign Ports by Geographic Trade Area and Country. For exports by sea or air between the United States and Puerto Rico, the foreign port of unlading is the code in terms of Schedule D, Classification of CBP Districts and Ports. The foreign port of unlading is not required for exports by other modes of transportation, including rail, truck, mail, fixed (pipeline), or air (unless between the U.S. and Puerto Rico).

(9) Export license number/CFR citation/KPC number. License number, permit number, citation, or authorization number assigned by the Department of Commerce, BIS; Department of State, DDTC; Department of the Treasury, OFAC; Department of Justice, DEA; Nuclear Regulatory Commission; or any other federal government agency.

(10) Export Control Classification Number (ECCN). The number used to identify items on the CCL, Supplement No. 1 to Part 774 of the EAR. The ECCN consists of a set of digits and a letter. Items that are not classified under an ECCN are designated “EAR99”.

(11) Secondary unit of measure. The unit of measure that corresponds to the secondary quantity as prescribed in the Schedule B or HTSUSA. If neither Schedule B nor HTSUSA specifies a secondary unit of measure for the item, the unit of measure is not required.

(12) Secondary quantity. The total number of units that correspond to the secondary unit of measure, if any, specified in the Schedule B or HTSUSA. Where the unit of measure is in terms of weight (grams, kilograms, metric tons, etc.), the quantity reflects the net weight, not including the weight of barrels, boxes, or other bulky coverings, and not including salt or pickle in the case of salted or pickled fish or meats. For a few commodities where “content grams” or “content kilograms” or some similar weight unit is specified in Schedule B or HTSUSA, the quantity may be less than the net weight. The quantity is reported as a whole unit only, without commas or decimals. If the quantity contains a fraction of a whole unit, round fractions of one-half unit or more up and fractions of less than one-half unit down to the nearest whole unit. (For example, where the unit for a given commodity is in terms of “tons,” a net quantity of 8.4 tons would be reported as 8 for the quantity. If the quantity is less than one unit, the quantity is 1.)

(13) Vehicle Identification Number (VIN)/Product ID. The identification number found on the exported used vehicle. For used self-propelled vehicles that do not have a VIN, the Product ID is reported. “Used” vehicle refers to any self-propelled vehicle where the equitable or legal title to which has been transferred by a manufacturer, distributor, or dealer to an ultimate purchaser. See U.S. Customs and Border Protection regulation 19 CFR 192.1 for more information on exports of used vehicles.

(14) Vehicle ID qualifier. The qualifier that identifies the type of used vehicle number reported. The valid codes are V for VIN and P for Product ID.

(15) Vehicle title number. The number issued by the Motor Vehicle Administration.

(16) Vehicle title state code. The 2-character postal code for the state or territory that issued the vehicle title.

(17) Entry number. The entry number must be reported for goods that are entered in lieu of being transported under bond for which the importer of record is a foreign entity, or for reexports of goods withdrawn from a FTZ for which a NAFTA-deferred duty claim (entry type 08) could have been made, but that the importer elected to enter for consumption under CBP entry type 06. For goods imported into the United States for export to a third country of ultimate destination, where the importer of record on the entry is a foreign entity, the USPPI will be the authorized agent designated by the foreign importer for service of process. The USPPI, in this circumstance, is required to report the import entry number.

(18) Transportation Reference Number (TRN). The TRN is as follows:

(i) Vessel shipments. Report the booking number for vessel shipments. The booking number is the reservation number assigned by the carrier to hold space on the vessel for cargo being exported. The TRN is required for all vessel shipments.

(ii) Air shipments. Report the master air waybill number for air shipments. The air waybill number is the reservation number assigned by the carrier to hold space on the aircraft for cargo being exported. The TRN is required for air shipments.

(iii) Rail shipments. Report the bill of lading (BL) number for rail shipments. The BL number is the reservation number assigned by the carrier to hold space on the rail car for cargo being exported. The TRN is optional for rail shipments.

(iv) Truck shipments. Report the freight or pro bill number for truck shipments. The freight or pro bill number is the number assigned by the carrier to hold space on the truck for cargo being exported. The freight or pro bill number correlates to a bill of lading number, air waybill number or trip number for multimodal shipments. The TRN is optional for truck shipments.

(19) License value. For shipments requiring an export license, report the value designated on the export license that corresponds to the commodity being exported.

(20) Department of State Requirements.

(i) Directorate of Defense Trade Controls (DDTC) registration number. The number assigned by the DDTC to persons who are required to register per Part 122 of the ITAR (22 CFR parts 120 through 130), and have an authorization (license or exemption) from DDTC to export the article.

(ii) DDTC Significant Military Equipment (SME) indicator. A term used to designate articles on the USML (22 CFR 121) for which special export controls are warranted because of their capacity for substantial military utility or capability. See § 120.7 of the ITAR 22 CFR 120 through 130 for a definition of SME and § 121.1 for items designated as SME articles.

(iii) DDTC eligible party certification indicator. Certification by the U.S. exporter that the exporter is an eligible party to participate in defense trade. See 22 CFR 120.1(c). This certification is required only when an exemption is claimed.

(iv) DDTC United States Munitions List (USML) category code. The USML category of the article being exported (22 CFR 121).

(v) DDTC Unit of Measure (UOM). This unit of measure is the UOM covering the article being shipped as described on the export authorization or declared under an ITAR exemption.

(vi) DDTC quantity. This quantity is the number of articles being shipped. The quantity is the total number of units that corresponds to the DDTC UOM code.

(vii) DDTC exemption number. The exemption number is the specific citation from the ITAR (22 CFR 120 through 130) that exempts the shipment from the requirements for a license or other written authorization from DDTC.

(viii) DDTC export license line number. The line number of the State Department export license that corresponds to the article being exported.

(21) Kimberley Process Certificate (KPC) number. The unique identifying number on the KPC issued by the United States KPC authority that must accompany all export shipments of rough diamonds. Rough diamonds are classified under 6-digit HS subheadings 7102.10, 7102.21, and 7102.31. Enter the KPC number in the license number field excluding the 2-digit ISO country code for the United States.

(22) Equipment number. Report the identification number for the shipping equipment, such as container or igloo number (Unit Load Device (ULD)), truck license number, or rail car number. For containerized vessel cargo, the USPPI must report the container number.

(23) Seal number. The security seal number placed on the equipment or container.

(24) Ultimate consignee type. If at the time of filing, the USPPI or the authorized agent knows the ultimate consignee is a reseller, government reseller or government consumer, the appropriate type must be indicated in the AES. If more than one type applies, provide the type that most often applies. For purposes of this paragraph, reseller, government reseller and government consumer are defined as follows:

(i) Reseller—a retailer, wholesaler, distributor, and/or trading company of the exported good to third parties, whether or not the third parties are known.

(ii) Government Reseller—a government-owned or government-controlled agency, institution, enterprise, or company that acts as retailer, wholesaler, distributor, or trading company of the exported good to third parties, whether or not the third parties are known.

(iii) Government Consumer—a government-owned or government-controlled agency, institution, enterprise, or company that consumes or uses the exported good as a consumable, for its own internal processes, as an input to the production of another good, as machinery or equipment that is part of a manufacturing process or a provision of services. The good is not resold or distributed without a substantial transformation of the good.

8. Amend § 30.7 by revising paragraph (b) to read as follows:

§ 30.7 Annotating the bill of lading, air waybill, or other commercial loading documents with proof of filing citations, and exemption legends.

(b) For shipments other than USML, the USPPI or the authorized agent is responsible for annotating the proper proof of filing citation or exemption legend on the first page of the bill of lading, air waybill, export shipping instructions or other commercial loading documents. The USPPI or the authorized agent must provide the proof of filing citation or exemption legend to the exporting carrier. The carrier must annotate the proof of filing citations and/or exemption legends on the carrier's outbound manifest when required. The carrier is responsible for presenting the appropriate proof of filing citation or exemption legend to CBP Port Director at the port of export as stated in Subpart E of this part. Such presentation shall be without material change or amendment of the proof of filing citation, postdeparture filing citation, AES downtime filing citation, or exemption legend as provided to the carrier by the USPPI or the authorized agent. The proof of filing citation will identify that the export information has been accepted as transmitted. The postdeparture filing citation, AES downtime filing citation, or exemption legends will identify that no filing is required prior to export. The proof of filing citations, postdeparture filing citations, or exemption legend shall appear on the bill of lading, air waybill or other commercial loading documentation and shall be clearly visible. The AES filing citations and/or exemption legends are provided for in Appendix D. The exporting carrier shall annotate the manifest or other carrier documentation with the AES filing citations or exemption legend.

* * * * *

9. Revise § 30.8 to read as follows:

§ 30.8 Time and place for presenting proof of filing citations and exemption legends.

The following conditions govern the time and place to present proof of filing citations, postdeparture filing citations, AES downtime filing citation, and exemption legends. The USPPI or the authorized agent is required to deliver the proof of filing citations, postdeparture filing citations, AES downtime filing citations or exemption legends required in § 30.7 to the exporting carrier. See Appendix D of this part for the properly formatted proof of filing citations or exemption legends. Failure of the USPPI or the authorized agent of either the USPPI or FPPI to comply with these requirements constitutes a violation of the regulations in this part and renders such principal party or the authorized agent subject to the penalties provided for in Subpart H of this part.

(a) Postal exports. The proof of filing citations, postdeparture filing citations, AES downtime filing citation, and/or exemption legends for items being sent by mail, as required in § 30.4(b), shall be presented to the postmaster with the packages at the time of mailing. The postmaster is required to deliver the proof of filing citations or exemption legends prior to export.

(b) Pipeline exports. The proof of filing citations or exemption legends for items being sent by pipeline shall be presented to the operator of a pipeline no later than four calendar days after the close of the month. See § 30.46 for requirements for the filing of export information by pipeline carriers.

(c) Exports by other methods of transportation. For exports sent other than by mail or pipeline, the USPPI or the authorized agent is required to deliver the proof of filing citations and/or exemption legends to the exporting carrier in accord with the time periods set forth in § 30.4(b).

10. Amend § 30.9 by revising paragraph (b) to read as follows:

§ 30.9 Transmitting and correcting Electronic Export Information.

* * * * *

(b) For shipments where the USPPI or the authorized agent has received an error message from AES, the corrections shall take place as required. Fatal error messages are sent to filers when EEI is not accepted in the AES. These errors must be corrected and EEI resubmitted prior to export for shipments filed predeparture and as soon as possible for shipments filed postdeparture but not later than five (5) calendar days from the date of export. Failure to respond to fatal error messages prior to export of the cargo subjects the principal party or authorized agent to penalties provided for in Subpart H of this part. Failing to transmit corrections to the AES constitutes a violation of the regulations in this part and renders such principal party or authorized agent subject to the penalties provided for in Subpart H of this part. For EEI that generates a warning message, the correction shall be made within four (4) calendar days of receipt of the original transmission. For EEI that generates a verify message, the correction, when warranted, shall be made within four (4) calendar days of receipt of the message. A compliance alert indicates that the shipment was not reported in accordance with the FTR. The USPPI or the authorized agent is required to review filing practices and take whatever corrective actions are required to conform with export reporting requirements.

11. Amend § 30.16 by revising the introductory text and paragraph (b) and adding paragraph (c) to read as follows:

§ 30.16 Export Administration Regulations.

The Export Administration Regulations (EAR) issued by the U.S. Department of Commerce, BIS, contains additional reporting requirements pertaining to EEI (see 15 CFR 730-774).

* * * * *

(b) Requirements to place certain export control information in the EEI are found in the EAR. (See 15 CFR 758.1(g)).

(c) Requirements to place certain export control information on export control documents for shipments exempt from AES filing requirements. (See 15 CFR 758.1(d).

12. Amend § 30.18 by revising paragraph (a) to read as follows:

§ 30.18 Department of State regulations.

(a) The USPPI or the authorized agent shall file export information, as required, for items on the USML of the International Traffic in Arms Regulations (ITAR) (See 22 CFR part 121). Information for items identified on the USML, including those exported under an export license or license exemption, shall be filed prior to export. Items identified on the USML, including those exported under an export license or license exemption, ultimately destined to a location in the United States are not required to be reported in the AES.

* * * * *

13. Amend § 30.25 by adding paragraph (c) to read as follows:

§ 30.25 Values for certain types of transactions.

* * * * *

(c) Goods rejected after entry. For imported goods that are cleared by CBP but subsequently rejected, an EEI must be filed to export the goods. The value to be reported in AES is the declared import value of the goods.

14. A Revise § 30.26 to read as follows:

§ 30.26 Reporting of vessels, aircraft, cargo vans, and other carriers and containers.

Export information shall be filed in the AES for all vessels, locomotives, aircraft, rail cars, trucks, other vehicles, trailers, pallets, cargo vans, lift vans, or similar shipping containers when these items are moving as goods pursuant to sale or other transfer from ownership in the United States to ownership abroad. The exports of used self-propelled vehicles as defined in 19 CFR 192.1 of U.S. Customs and Border Protection regulations must be filed in the AES regardless of value or country of destination. If a vessel, car, aircraft, locomotive, rail car, vehicle, or container, whether in service or newly built or manufactured, is sold or transferred to foreign ownership while in Customs territory of the United States or at a port in such area, EEI shall be reported in accordance with the general requirements of the regulations in this part, identifying the port through or from which the vessel, aircraft, locomotive, rail car, car, vehicle, or container first leaves the United States after sale or transfer. If the vessel, car, aircraft, locomotive, rail car, vehicle, or shipping container is outside Customs territory of the United States at the time of sale or transfer to foreign ownership, EEI shall be reported identifying the last port of clearance or departure from the United States prior to sale or transfer. The country of destination to be shown in the EEI for vessels sold foreign is the country of new ownership. The country for which the vessel clears, or the country of registry of the vessel, should not be reported as the country of destination in the EEI unless such country is the country of new ownership.

15. Amend § 30.28 by revising the section heading, introductory text and paragraphs (a) and (b) to read as follows:

§ 30.28 Split shipments.

A shipment covered by a single EEI transmission booked for export on one conveyance, but divided by the exporting carrier at the port of export where the manifest is filed and sent on two or more conveyances of the same carrier on the same day. For a shipment that does not transport on the same day, a new EEI must be filed. The following procedures apply for split shipments:

(a) The carrier shall deliver the manifest to CBP Port Director with the manifest covering the conveyance on which the first part of the split shipment is exported and shall make no changes to the EEI. However, the manifest shall show in the “number of packages” column the actual portion of the declared total quantity being carried and shall carry a notation to indicate “Split Shipment.” All manifests with the notation “Split Shipment” will have identical ITNs.

(b) On each subsequent manifest covering a conveyance on which any part of a split shipment is exported, a prominent notation “SPLIT SHIPMENT” shall be made on the manifest for identification. On the last shipment, the notation shall read “SPLIT SHIPMENT, FINAL.” Each subsequent manifest covering a part of a split shipment shall also show in the “number of packages” column only the goods carried on that particular conveyance and a reference to the total amount originally declared for export (for example, 5 of 11, or 5/11). Immediately following the line showing the portion of the split shipment carried on that conveyance, a notation will be made showing the bill of lading number, air waybill number, or other commercial loading documents shown in the original EEI and the portions of the originally declared total carried on each previous conveyance, together with the number and date of each such previous conveyance (for example, air waybill 123; 1 of 2, flight 36A, June 6 SPLIT SHIPMENT; 2 of 2, flight 40X, June 6 SPLIT SHIPMENT, FINAL).

* * * * *

16. Amend § 30.29 by revising paragraphs (a) and (b)(2) to read as follows:

§ 30.29 Reporting of repairs and replacements.

* * * * *

(a) The return of goods previously imported only for repair and alteration to the foreign shipper of temporarily imported goods (declared as such on importation) shall have Schedule B number 9801.10.0000. The value reported shall only include parts and labor. If the value of the parts and labor is over $2,500 per Schedule B number, or a license or DDTC license exemption statement is required, then EEI must be filed. The value of the original product shall not be included.

(b) * * *

(2) Goods that are replaced under warranty at no charge to the customer shall include the statement, “Product replaced under warranty, value for EEI purposes” on the bill of lading, air waybill, or other commercial loading documents. Place the notation below the proof of filing citation or exemption legend on the commercial document. Report the Schedule B number or HTSUSA classification commodity number of the replacement parts. Report the value of the replacement parts in accordance with 30.6(a)(17).

17. Revise § 30.35 to read as follows:

§ 30.35 Procedure for shipments exempt from filing requirements.

Except as noted in § 30.2(a)(1)(iv), where an exemption from the filing requirement is provided in this subpart of this part, a legend describing the basis for the exemption shall be made on the first page of the bill of lading, air waybill, or other commercial loading document for carrier use, or on the carrier's outbound manifest. The exemption legend shall reference the number of the section or provision in this part where the particular exemption is provided (see Appendix D of this part).

18. Amend § 30.36 by revising paragraph (b) introductory text and paragraph (b)(2); and adding paragraphs (b)(7) and (b)(8) to read as follows:

§ 30.36 Exemption for shipments destined to Canada.

* * * * *

(b) This exemption does not apply to the following types of export shipments (These shipments shall be reported in the same manner as for all other exports, except household goods which require limited reporting):

* * * * *

(2) Exports moving from the United States through Canada to a third destination.

* * * * *

(7) Used self-propelled vehicles as defined in 19 CFR 192.1 of U.S. Customs and Border Protection regulations, regardless of value or country of destination.

(8) Household goods, regardless of value or country of destination. (See § 30.38 of this part for filing instructions.)

19. Amend § 30.37 by revising the introductory text and paragraphs (a), (e), and (g); removing paragraphs (q) and (r); redesignating paragraphs (s) and (t) as paragraphs (q) and (r); and adding a new paragraph (s) to read as follows:

§ 30.37 Miscellaneous exemptions.

Except as noted in § 30.2 (a)(1)(iv), filing EEI is not required for the following kinds of shipments. However, the Census Bureau has the authority to periodically require the reporting of shipments that are normally exempt from filing.

(a) Exports of commodities where the value of the commodities shipped from one USPPI to one consignee on a single exporting carrier, classified under an individual Schedule B number or HTSUSA commodity classification code, is $2,500 or less. This exemption applies to individual Schedule B numbers or HTSUSA commodity classification codes regardless of the total shipment value. In instances where a shipment contains a mixture of individual Schedule B numbers or HTSUSA commodity classification codes valued at $2,500 or less and individual Schedule B numbers or HTSUSA commodity classification codes valued over $2,500, only those Schedule B numbers or HTSUSA commodity classification codes valued over $2,500 are required to be reported. If the filer reports multiple items of the same Schedule B number or HTSUSA commodity classification code, this exemption only applies if the total value of exports for the Schedule B number or HTSUSA commodity classification code is $2,500 or less. Items of domestic or foreign origin under the same commodity classification number must be reported separately and required when valued over $2,500. For the reporting of household goods see § 30.38. Note: this exemption does not apply to the export of vehicles or household goods. The export information for vehicles and household goods must be filed in AES regardless of value or country of destination.

* * * * *

(e) Vessels, locomotives, aircraft, rail cars, trucks, other vehicles, trailers, pallets, cargo vans, lift vans, or similar shipping containers not considered “shipped” in terms of the regulations in this part, when they are moving, either loaded or empty, without transfer of ownership or title, in their capacity as carriers of goods or as instruments of such carriers, and EEI filing is not required.

* * * * *

(g) Shipments of books, maps, charts, pamphlets, and similar articles to foreign libraries, government establishments, or similar institutions.

* * * * *

(s) Exports of technical data and defense service exemptions as defined in 22 CFR 123.22(b)(3)(iii) of the ITAR.

20. Revise § 30.38 to read as follows:

§ 30.38 Exemption from the requirements for reporting complete commodity information.

Regardless of value, household goods of usual and reasonable kinds and quantities of personal property, such as wearing apparel, articles of personal adornment, toilet articles, medicinal supplies, food, souvenirs, games, and their containers require limited reporting of EEI. These goods should be for use by the USPPI or the USPPI's immediate family, not intended for sale; and shipped under a bill of lading or an air waybill. In such cases, Schedule B or HTSUSA commodity classification codes and domestic/foreign indicator shall not be required.

21. Revise § 30.39 to read as follows:

§ 30.39 Special exemptions for shipments to the U.S. Armed Services.

Except as noted in § 30.2 (a)(1)(iv), filing of EEI is not required for any and all commodities, whether shipped commercially or through government channels, consigned to the U.S. Armed Services for their exclusive use, including shipments to armed services exchange systems. This exemption does not apply to articles that are on the USML and thus controlled by the ITAR and/or shipments that are not consigned to the U.S. Armed Services, regardless of whether they may be for their ultimate and exclusive use.

22. Amend § 30.40 by revising the introductory text and removing paragraph (d) to read as follows:

§ 30.40 Special exemptions for certain shipments to U.S. government agencies and employees.

Except as noted in § 30.2 (a)(1)(iv), filing EEI is not required for the following types of shipments to U.S. government agencies and employees:

* * * * *

23. Amend § 30.45 as follows:

a. Revise paragraph (a) introductory text and paragraphs (a)(2), (a)(4), (c), (d), (f)(1) and (f)(2); and

b. Remove paragraphs (f)(3) and (f)(4).

§ 30.45 General statement of requirements for the filing of carrier manifests with proof of filing citations for the electronic submission of export information or exemption legends when Electronic Export Information filing is not required.

(a) Requirement for filing carrier manifest. Carriers transporting goods from the United States, Puerto Rico, or the U.S. Virgin Islands to foreign countries; from the United States or Puerto Rico to the U.S. Virgin Islands; or between the United States and Puerto Rico may not be granted clearance and may not depart until complete manifests or other required documentation (for ocean, air, and rail carriers) have been delivered to CBP Port Director in accordance with all applicable requirements under CBP regulations. CBP may require any of the following: Bill of lading, air waybill, export shipping instructions, manifest, train consist, or other commercial loading documents, and any other document CBP determines necessary to ensure compliance with U.S. export control laws. The required document shall contain the appropriate AES proof of filing citations, covering all cargo for which the EEI is required, or exemption legends, covering cargo for which EEI need not be filed by the regulations of this part. Such annotation shall be without material change or amendment of proof of filing citations or exemption legends as provided to the carrier by the USPPI or its authorized agent.

* * * * *

(2) Aircraft. Aircraft transporting goods shall file a complete manifest as required in CBP regulations 19 CFR 122.72-122.76. The manifest shall be filed with CBP Port Director at the CBP port of exit. For shipments from the United States to Puerto Rico, the manifests shall be filed with CBP Port Director at the port where the goods are unladen in Puerto Rico.

* * * * *

(4) Carriers not required to file manifests. Carriers allowed to file incomplete manifests under applicable CBP regulations are required, upon request, to present to CBP Port Director the proof of filing citation or exemption legends for each shipment, prior to departure of the vessel, aircraft, train, truck or other means of conveyance.

* * * * *

(c) Split shipments. When a shipment is divided by the carrier and is covered by a single EEI transmission, the split shipment procedure provided in § 30.28 shall be followed by the carrier in delivering manifests with the proof of filing citation or exemption legend to CBP Port Director.

(d) Attachment of commercial documents. The manifest shall carry a notation that values stated are as presented on the bills of lading, cargo lists, export shipping documents or other commercial documents. The bills of lading, cargo lists, export shipping documents or other commercial documents shall be securely attached to the manifest in such a manner as to constitute one document. The manifest shall reference the statement “Cargo as per bills of lading attached” or “Cargo as per commercial forms attached.” Also required on the face of each commercial loading document shall be the information required by the manifest for cargo covered by that document.

* * * * *

(f) * * *

(1) Except as noted in 30.4 (b)(2), ocean, rail, truck and air exporting carriers shall not accept paper SEDs and under any circumstances load cargo that does not have all proof of filing citations, exemption legends, or postdeparture citations as provided for in Appendix D.

(2) Except as noted in 30.4 (b)(2), ocean, rail, truck and air exporting carriers are subject to the penalties provided for in Subpart H of this part if the exporting carrier;

24. Revise § 30.46 to read as follows:

§ 30.46 Requirements for the filing of export information by pipeline carriers.

The operator of a pipeline may transport goods to a foreign country without the prior filing of the proof of filing citations or exemption legends, on the condition that within four calendar days following the end of each calendar month the operator will deliver to CBP Port Director the proof of filing citations or exemption legends covering all exports through the pipeline to each consignee during the month.

25. Amend § 30.47 by revising paragraphs (a) and (b) to read as follows:

§ 30.47 Clearance or departure of carriers under bond on incomplete manifest.

(a) For purposes of the regulations in this part, except when carriers are transporting merchandise from the United States to Puerto Rico, clearance or permission to depart may be granted to any carrier by CBP Port Director prior to filing of a complete manifest as required under the CBP regulations or prior to filing by the carrier of all required filing citations and/or exemption legends, provided there is a bond as specified in 19 CFR 4.75, 4.76, and 122.74. The conditions of the bond shall be that a complete manifest, where a manifest is required by the regulations in this part and all required filing citations and/or exemption legends shall be filed by the carrier no later than the fourth calendar day after clearance or departure of the carrier except as otherwise specifically provided in paragraphs (a)(1), (a)(2), and (a)(3) of this section.

(1) For manifests submitted electronically through AES, the condition of the bond shall be that the manifest and all required filing citations and/or exemption legends shall be completed not later than the tenth business day after departure from each port.

(2) For rail carriers to Canada, the conditions of the bond shall be that manifest and all filing citations and/or exemption legends shall be filed with CBP not later than the fourth calendar day after departure.

(3) For carriers under bond on incomplete manifest, upon request, a list of filing citations and/or exemption legends must be presented to a CBP Export Control Officer at the port of exit prior to departure by the carrier.

(b) In the event that any required manifest and all required filing citations and/or exemption legends are not filed by the carrier within the period provided by the bond, then a penalty of $1,100 shall be exacted for each day's delinquency beyond the prescribed period, but not more than $10,000 per violation.

* * * * *

26. Amend § 30.50 by revising (b)(5) to read as follows:

§ 30.50 General requirements for filing import entries.

* * * * *

(b) * * *

(5) Electronic CBP Form 214 Admissions (e214).

27. Revise § 30.52 to read as follows:

§ 30.52 Foreign Trade Zones (FTZ).

When goods are withdrawn from a FTZ for export to a foreign country, the export shall be reported in accordance with § 30.2. Foreign goods admitted into FTZs shall be reported as a general import. Statistical requirements for zone admissions are provided to the Census Bureau via CBP's Automated Broker Interface (ABI) new electronic 214 (e214) program or the CBP Form 214A Application for Foreign Trade Zone Admission and/or Status Designation. Refer to CBP Web site at http://www.cbp.gov to download “Foreign Trade Zone Manual” where instructions for completing the paper CBP Form 214A documents are provided in Appendix C. When goods are withdrawn for domestic consumption or entry into a bonded warehouse, the withdrawal shall be reported on CBP 7501 or through the ABI in accordance to CBP regulations. The instructions and definitions for completing the e214 are provided in 19 CFR 146. The following data items are required to be filed on the 214A, for statistical purposes:

(a) Zone Number and Location (Address).

(b) Port Code.

(c) Importing Vessel and Flag/Other Carrier.

(d) Export Date.

(e) Import Date.

(f) Zone Admission Number.

(g) U.S. Port of Unlading.

(h) In-bond Carrier.

(i) Foreign Port of Lading.

(j) Bill of Lading/AWB Number.

(k) Number of Packages & Country of Origin.

(l) Description of Merchandise.

(m) HTSUSA Number.

(n) Quantity (HTSUSA).

(o) Gross Weight.

(p) Separate Value and Aggregate Charges.

(q) Status Designation.

28. Amend § 30.54 by revising paragraph (b) to read as follows:

§ 30.54 Special provisions for imports from Canada.

* * * * *

(b) All other imports from Canada, including certain softwood lumber products not covered in paragraph (a) of this section, will require the two letter designation of the Canadian region of origin to be reported on U.S. entry summary records. This information is required only for U.S. imports that under applicable CBP rules of origin are determined to originate in Canada. For nonmanufactured goods determined to be of Canadian origin, the region of origin is defined as the region where the exported goods were originally grown, mined, or otherwise produced. For goods of Canadian origin that are manufactured or assembled in Canada, with the exception of the certain softwood lumber products described in paragraph (a) of this section, the region of origin is that in which the final manufacture or assembly is performed prior to exporting that good to the United States. In cases where the region in which the goods were manufactured, assembled, grown, mined, or otherwise produced is unknown, the region in which the Canadian vendor is located can be reported. For those reporting on paper forms the region of origin code replaces the country of origin code on CBP Form 7501, entry summary form.

* * * * *

29. Amend § 30.60 by revising paragraph (d) to read as follows:

§ 30.60 Confidentiality of Electronic Export Information.

* * * * *

(d) Copying of information to manifests. Because the ocean manifest can be made public under provision of CBP regulations, no information from the EEI, except the ITN, filing citation, exemptions legends, shall be copied to the outward manifest of ocean carriers.

* * * * *

30. Amend § 30.71 by revising paragraph (b)(1), redesignate paragraphs (b)(2) and (b)(3) as paragraphs (b)(3) and (b)(4), revise the newly redesignated paragraph (b)(3), and add a new paragraph (b)(2) to read as follows:

§ 30.71 False or fraudulent reporting on or misuse of the Automated Export System.

* * * * *

(b) * * *

(1) Failure to file violations. A failure to file violation occurs if the government discovers that there is no AES record for an export transaction by the applicable period prescribed in § 30.4 of this part. Any AES record filed later than ten (10) calendar days after the due date will also be considered a failure to file regardless of whether the violation was or was not discovered by the government. A civil penalty not to exceed $10,000 may be imposed for a failure to file violation.

(2) Late filing violations. A late filing violation occurs when an AES record is not filed by the applicable period prescribed in § 30.4 of this part. A civil penalty not to exceed $1,100 for each day of delinquency, but not more than $10,000 per violation, may be imposed for failure to file timely export information or reports in connection with the exportation or transportation of cargo. (See 19 CFR 192)

(3) Filing false/misleading information, furtherance of illegal activities and penalties for other violations. A civil penalty not to exceed $10,000 per violation may be imposed for each violation of provisions of this part other than any violation encompassed by paragraph (b)(1) and (b)(2) of this section. Such penalty may be in addition to any other penalty imposed by law.

* * * * *

31. Amend § 30.74 by revising paragraph (c)(3)(iv), (c)(3)(v), (c)(5) and adding paragraph (c)(3)(vi) and (c)(3)(vii) to read a follows:

§ 30.74 Voluntary self-disclosure.

* * * * *

(c) * * *

(3) * * *

(iv) The complete identities and addresses of all individuals and organizations, whether foreign or domestic, involved in the activities giving rise to the violations;

(v) A description of any mitigating circumstances;

(vi) Corrective measures taken; and

(vii) ITNs of the missed and/or corrected shipments.

* * * * *

(5) Where to make voluntary self-disclosures. With the exception of voluntary disclosures of manifest violations under § 30.47(c), the information constituting a voluntary self-disclosure or any other correspondence pertaining to a voluntary self-disclosure may be submitted to: Chief, Foreign Trade Division, U.S. Census Bureau, Room 6K032, Washington, DC 20233-6700, or by fax on (301) 763-8835. Additional instructions are found at http://www.census.gov/trade.

* * * * *

32. In Appendix B to Part 30, revise Part II—Export Information Codes and Part III—License Codes to read as follows:

Appendix B to Part 30—AES Codes

* * * * *

Part II—Export Information Codes

TP Temporary exports of domestic merchandise

IP Shipments of merchandise imported under a Temporary Import Bond for further manufacturing or processing

IR Shipments of merchandise imported under a Temporary Import Bond for repair

CH Shipments of goods donated for charity

FS Foreign Military Sales

ZD North American Free Trade Agreements (NAFTA) duty deferral shipments

OS All other exports

HV Shipments of personally owned vehicles

HH Household and personal effects

TE Temporary exports to be returned to the United States

TL Merchandise leased for less than a year

IS Shipments of merchandise imported under a Temporary Import Bond for return in the same condition

CR Shipments moving under a carnet

GP U.S. Government shipments

MS Shipments consigned to the U.S. Armed Forces

GS Shipments to U.S. Government agencies for their use

UG Gift parcels under Bureau of Industry and Security License Exception GFT

DD Other exemptions:

Currency

Airline tickets

Bank notes

Internal revenue stamps

State liquor stamps

Advertising literature

Shipments of temporary imports by foreign entities for their use

IW International water shipments

CI Impelled shipments of goods donated for relief or charity

FI Impelled Foreign Military Sales Program

OI All other exports (impelled)

(For Manifest Use Only by AES Carriers)

AE Shipment information filed through AES

(See §§ 30.50 through 30.58 for information on filing exemptions.)

Part III—License Codes

Department of Commerce, Bureau of Industry and Security (BIS), Licenses

C30 Licenses issued by BIS authorizing an export, reexport, or other regulated activity.

C31 SCL—Special Comprehensive License

C32 NLR—No License Required (controlled for other than or in addition to Anti-Terrorism)

C33 NLR—No License Required (All others, including Anti-Terrorism controls ONLY)

C35 LVS—Limited Value Shipments

C36 GBS—Shipments to B Countries

C37 CIV—Civil End Users

C38 TSR—Restricted Technology and Software

C40 TMP—Temporary Imports, Exports, and Re-exports

C41 RPL—Servicing and Replacement of Parts and Equipment

C42 GOV—Government and International Organizations

C43 GFT—Gift Parcels and Humanitarian Donations

C44 TSU—Technology and Software—Unrestricted

C45 BAG—Baggage

C46 AVS—Aircraft and Vessels (AES not required)

C49 TAPS—Trans-Alaska Pipeline Authorization Act

C50 ENC—Encryption Commodities and Software

C51 AGR—License Exception Agricultural Commodities

C53 APP—Adjusted Peak Performance (Computers)

C54 SS-WRC—Western Red Cedar

C55 SS-Sample—Crude Oil Samples

C56 SS-SPR—Strategic Petroleum Reserves

C57 VEU—Validated End User Authorization

C58 VEU—Consumer Communication Devices

* * * * *

33. Revise Appendix C to Part 30 to read as follows:

Appendix C to Part 30—Summary of Exemptions and Exclusions From EEI Filing

A. Except as noted in § 30.2 (a)(1)(iv), filing EEI is not required for the following types of shipments: ¹

¹ Exemption from the requirements for reporting complete commodity information is covered in § 30.38; Special exemptions for shipments to the U.S. Armed Services are covered in § 30.39; and special exemptions for certain shipments to U.S. Government agencies and employees are covered in § 30.40.

1. Exemption for shipments destined to Canada (§ 30.36).

2. Valued $2,500 or less per Schedule B/HTSUSA classification for commodities shipped from one USPPI to one consignee on a single carrier (§ 30.37(a)).

3. Tools of the trade and their containers that are usual and reasonable kinds and quantities of commodities and software intended for use by individual USPPIs or by employees or representatives of the exporting company in furthering the enterprises and undertakings of the USPPI abroad (§ 30.37(b)).

4. Shipments from one point in the United States to another point in the United States by routes passing through Canada or Mexico (§ 30.37(c)).

5. Shipments from one point in Canada or Mexico to another point in the same country by routes through the United States (§ 30.37(d)).

6. Vessels, locomotives, aircraft, rail cars, trucks, other vehicles, trailers, pallets, cargo vans, lift vans, or similar shipping containers not considered “shipped” in terms of the regulations in this part, when they are moving, either loaded or empty, without transfer of ownership or title, in their capacity as carriers of goods or as instruments of such carriers, and EEI filing is not required. (§ 30.37(e)).

7. Exports of technology and software as defined in 15 CFR 772 of the EAR that do not require an export license. However, EEI is required for mass-market software (§ 30.37(f)).

8. Shipments of books, maps, charts, pamphlets, and similar articles shipped to foreign libraries, government establishments, or similar institutions (§ 30.37(g)).

9. Shipments as authorized under License Exception GFT for gift parcels and humanitarian donations (EAR 15 CFR 740.12); § 30.37(h).

10. Diplomatic pouches and their contents (§ 30.37(i)).

11. Human remains and accompanying appropriate receptacles and flowers (§ 30.37(j)).

12. Shipments of interplant correspondence, executed invoices and other documents, and other shipments of company business records from a U.S. firm to its subsidiary or affiliate. This excludes highly technical plans, correspondence, etc. that could be licensed (§ 30.37(k)).

13. Shipments of pets as baggage (§ 30.37(l)).

14. Carrier's stores, not shipped under a bill of lading or an air waybill, supplies and equipment, including usual and reasonable kinds and quantities of bunker fuel, deck engine and steward department stores, provisions and supplies, medicinal and surgical supplies, food stores, slop chest articles, and saloon stores or supplies for use or consumption on board and not intended for unlading in a foreign country (§ 30.37(m)).

15. Dunnage not shipped under a bill of lading or an air waybill, of usual and reasonable kinds and quantities not intended for unlading in a foreign country (§ 30.37(n)).

16. Shipments of aircraft parts and equipment; food, saloon, slop chest, and related stores; and provisions and supplies for use on aircraft by a U.S. airline. (EAR license exception (AVS) for aircraft and vessels 15 CFR 740.15(c); § 30.37(o)).

17. Baggage and personal effects, accompanied or unaccompanied, of persons leaving the United States including members of crews on vessels and aircraft, when they are not shipped as cargo under a bill of lading or an air waybill and do not require an export license (§ 30.37(p)).

18. Issued banknotes and securities and coins in circulation exported as evidence of financial claims. The EEI must be filed for unissued bank notes and securities and coins not in circulation (such as bank notes printed in the United States and exported in fulfillment of the printing contract or as part of collections), which should be reported at their commercial or current value (§ 30.37(q)).

19. Documents used in international transactions, documents moving out of the United States to facilitate international transactions including airline tickets, internal revenue stamps, liquor stamps, and advertising literature. Export of such documents in fulfillment of a contract for their production, however, are not exempt and must be reported at the transaction value for their production (§ 30.37(r)).

20. Exports of technical data and defense service exemptions as defined in 22 CFR 123.22(b)(3)(iii) of the ITAR (§ 30.37(s)).

B. The following types of transactions are outside the scope of the FTR and shall be excluded from EEI filing:

1. Goods shipped under CBP bond through the United States, Puerto Rico, or the U.S. Virgin Islands from one foreign country or area to another where such goods do not enter the consumption channels of the United States.

2. Goods shipped from the U.S. territories, except Puerto Rico and U.S. Virgin Islands, and goods shipped between the United States and these territories, except Puerto Rico and U.S. Virgin Islands, do not require EEI filing. However, goods transiting U.S. territories to foreign destinations require EEI filing.

3. Electronic transmissions and intangible transfers. (See Subpart B of this part for export control requirements for these types of transactions.)

4. Goods shipped to Guantanamo Bay Naval Base in Cuba from the United States, Puerto Rico, or the U.S. Virgin Islands and from Guantanamo Bay Naval Base to the United States, Puerto Rico, or the U.S. Virgin Islands. (See § 30.39 for filing requirements for shipments exported to the U.S. Armed Services.)

5. Goods destined for international waters where the person(s) or entity assuming control of the item(s) is from the United States or where the United States is the country of ultimate destination on the export license, except shipments from Puerto Rico.

34. Revise Appendix D to Part 30 to read as follows:

Appendix D to Part 30—AES Filing Citation and Exemption Legends

I. USML Proof of Filing Citation | AES ITN. Example: AES X20100101987654.
II. AES Proof of Filing Citation subpart A § 30.7 | AES ITN. Example: AES X20100101987654.
III. AES Postdeparture Citation—USPPI, USPPI is filing the EEI | AESPOST USPPI EIN mm/dd/yyyy. Example: AESPOST 12345678912 01/01/2010.
IV. Postdeparture Citation—Agent | AESPOST USPPI EIN—Filer ID mm/dd/yyyy. Example: AESPOST 12345678912—987654321 01/01/2010.
V. AES Downtime Citation—Use only when AES or AES Direct is unavailable | AESDOWN Filer ID mm/dd/yyyy. Example: AESDOWN 123456789 01/01/2010.
VI. Exemption for Shipments to Canada | NOEEI § 30.36.
VII. Exemption for Low-Value Shipments | NOEEI § 30.37(a).
VIII. Miscellaneous Exemption Statements are found in 15 CFR 30 Subpart D § 30.37(b) through § 30.37(s) | NOEEI § 30.37 (site corresponding alphabet).
IX. Special Exemption for Shipments to the U.S. Armed Forces | NOEEI § 30.39.
X. Special Exemptions for Certain Shipments to U.S. Government Agencies and Employees (Exemption Statements are found in 15 CFR 30 Subpart D § 30.40(a) through § 30.40(d) | NOEEI § 30.40 (site corresponding alphabet).
XI. Split Shipments. Split Shipments should be referenced as such on the manifest in accordance with provisions contained in § 30.28, Split Shipments. The notation should be easily identifiable on the manifest. It is preferable to include a reference to a split shipment in the exemption statements cited in the example, the notation SS should be included at the end of the appropriate exemption statement | AES ITN SS. Example: AES X20100101987654 SS.
XII. Proof of filing citations by pipeline | NOEEI § 30.8(b).

35. Revise Appendix E to Part 30 to read as follows:

Appendix E to Part 30—FTSR to FTR Concordance

FTSR | FTSR Regulatory topic | FTR | FTR Regulatory topic
Subpart A—General Requirements—USPPI
30.1 | General statement of requirement for Shipper's Export Declarations (SEDs) | 30.2 | General requirements for filing Electronic Export Information (EEI).
30.1(a) | General requirements for filing SEDs |  | General requirements for filing EEI.
30.1(b) | General requirements for reporting regarding method of transportation |  | NA.
30.1(c) | AES as an alternative to SED reporting |  | NA.
30.1(d) | Electronic transmissions and intangible transfers | 30.2(d)(3) | Exclusions from filing EEI.
30.2 | Related export control requirements | 30.15 | Export control and licensing requirements introduction.
|  | 30.16 | EAR requirements for export information on shipments from U.S. Possessions to foreign destinations or areas.
|  | 30.17 | Customs and Border Protection Regulations.
30.3 | Shipper's Export Declaration forms |  | NA.
30.4 | Preparation and signature of Shipper's Export Declarations (SED) | 30.3 | Electronic Export Information filer requirements, parties to export transactions, responsibilities of parties to export transactions.
30.4(a) | General requirements (SED) | 30.3(a) | General Requirements.
|  | 30.3(b) | Parties to the export transaction.
30.4(b) | Responsibilities of parties in export transactions | 30.3(c) | General responsibilities of parties in export transactions.
|  | 30.3(d) | Filer responsibilities.
30.4(c) | Responsibilities of parties in a routed export transactions | 30.3(e) | Responsibilities of parties in a routed export transactions.
30.4(d) | Information on the Shipper's Export Declaration (SED) or Automated Export System (AES) record | 30.3(a) | General requirements.
30.4(e) | Authorizing a forwarding or other agent | 30.3(f) | Authorizing an agent.
30.4(f) | Format requirements for SEDs |  | NA.
30.5 | Number and copies of Shipper's Export Declaration required |  | NA.
30.6 | Requirements as to separate Shipper's Export Declarations |  | NA.
30.7 | Information required on Shipper's Export Declarations |  | NA.
30.8 | Additional information required on Shipper's Export Declaration for In-Transit Goods (ENG Form 7513) |  | NA.
30.9 | Requirements for separation and alignment of items on Shipper's Export Declarations |  | NA.
30.10 | Continuation sheets for Shipper's Export Declaration |  | NA.
30.11 | Authority to require production of document | 30.10(b) | Authority to require production of documents and retaining electronic data.
30.12 | Time and place for presenting the SED, exemption legends or proof of filing citations | 30.4 | Electronic export information filing procedures, deadlines, and certification statements.
|  | 30.8 | Time and place for presenting proof of filing citations, postdeparture filing citations, AES downtime citations, and exemption legends.
30.15 | Procedure for presentation of declarations covering shipments from an interior point |  | NA.
30.16 | Corrections to Shipper's Export Declarations | 30.9 | Transmitting and correcting Electronic Export Information.
Subpart B—General Requirements—Exporting Carriers
30.20 | General statement of requirement for the filing of manifests | 30.45 | General statement of requirements for the filing of carrier manifests with proof of filing citations.
30.20(a) | Carriers transporting merchandise from the United States, Puerto Rico, or U.S. territories to foreign countries | 30.45(a) | Requirements for filing carrier manifest.
30.20(b) | For carriers transporting merchandise from the United States to Puerto Rico | 30.45(a) | Requirements for filing carrier manifest.
30.20(c) | Except as otherwise specifically provided, declarations should not be filed at the place where the shipment originates | 30.45(a) | Requirements for filing carrier manifest.
30.20(d) | For purposes of these regulations, the port of exportation is defined as | 30.1(c) | Definition used with EEI.
30.21 | Requirements for the filing of Manifests | 30.45 | General statement of requirements for the filing of carrier manifests with proof of filing citations for the electronic submission of export information or exemption legends when EEI is not required.
30.21(a) | Vessel | 30.45(a)(1) | Vessel.
30.21(b) | Aircraft | 30.45(a)(2) | Aircraft.
30.21(c) | Rail Carrier | 30.45(a)(3) | Rail Carrier.
30.21(d) | Carriers not required to file manifests | 30.45(a)(4) | Carriers not required to file manifests.
30.22(a) | Requirements for the filing of SEDs or AES exemption legends and AES proof of filing citations by departing carriers | 30.8 | Time and place for presenting proof of filing citation, and exemption legends.
30.22(b) | The exporting carrier shall be responsible for the accuracy of the following items of information |  | NA.
30.22(c) | Except as provided in paragraph (d) of this section, when a transportation company finds, prior to the filing of declarations and manifest as provided in paragraph (a) of this section, that due to circumstances beyond the control of the transportation company or to inadvertence, a portion of the merchandise covered by an individual Shipper's Export Declaration has not been exported on the intended carrier |  | NA.
30.22(d) | When a shipment by air covered by a single Shipper's Export Declaration is divided by the transportation company and exported in more than one aircraft of the transportation | 30.45(c) | Split shipments.
30.22(e) | Exporting carriers are authorized to amend incorrect shipping weights reported on Shipper's Export Declarations |  | NA.
30.23 | Requirements for the filing of Shipper's Export Declarations by pipeline carriers | 30.46 | Requirements for the filing of export information by pipeline carriers.
30.24 | Clearance or departure of carriers under bond on incomplete manifest on Shipper's Export Declarations | 30.47 | Clearance or departure of carriers under bond on incomplete manifests.
Subpart C—Special Provisions Applicable Under Particular Circumstances
30.30 | Values for certain types of transactions | 30.25 | Values for certain types of transactions.
30.31 | Identification of certain nonstatistical and other unusual transactions | 30.29 | Reporting of repairs and replacements.
30.31(a) | Merchandise exported for repair only, and other temporary exports | 30.29(a) | The return of goods previously imported for repair.
30.31(b) | The return of merchandise previously imported for repair only | 30.29(b) | Goods that are covered under warranty and other temporary exports.
30.31(c) | Shipments of material in connection with construction, maintenance, and related work being done on projects for the U.S. Armed Forces |  | NA.
30.33 | Vessels, planes, cargo vans, and other carriers and containers sold foreign | 30.26 | Reporting of vessels, aircraft, cargo vans, and other carriers and containers.
30.34 | Return of exported cargo to the United States prior to reaching its final destination | 30.27 | Return of exported cargo to the United States prior to reaching its final destination.
30.37 | Exceptions from the requirement for reporting complete commodity detail on the Shipper's Export Declaration | 30.38 | Exemption from the requirements for reporting complete commodity information.
30.37(a) | Where it can be determined that particular types of U.S. Government shipments, or shipments for government projects, are of such nature that they should not be included in the export statistics | 30.39 | Special exemptions for shipments to the U.S. Armed Services. (Note, this section does not specifically address construction materials nor related work being done on projects).
30.37(b) | Special exemptions to specific portions of the requirements of § 30.7 with respect to the reporting of detailed information |  | NA.
30.39 | Authorization for reporting statistical information other than by means of individual Shipper's Export Declarations filed for each shipment |  | NA.
30.40 | Single declaration for multiple consignees |  | NA.
30.41 | “Split shipments” by air | 30.28 | Split shipments.
Subpart D—Exemptions from the requirements for the Filing of Shipper's Export Declarations
30.50 | Procedure for shipments exempt from the requirements for Shipper's Export Declarations | 30.35 | Procedure for shipments exempt from filing requirements.
30.51 | Government shipments not generally exempt | 30.39 | Special exemption for shipments to the U.S. Armed Services.
30.52 | Special exemptions for shipments to the U.S. Armed Services | 30.39 | Special exemptions for shipments to the U.S. Armed Services.
30.53 | Special exemptions for certain shipments to U.S. Government agencies and employees | 30.40 | Special exemptions for certain shipments to U.S. Government agencies and employees.
30.53(e) | All commodities shipped to and for the exclusive use of the Panama Canal Zone Government or the Panama Canal Company |  | NA.
30.55 | Miscellaneous exemptions | 30.37 | Miscellaneous exemptions.
30.55(a) | Diplomatic pouches and their contents | 30.37(i) | Diplomatic pouches and their contents.
30.55(b) | Human remains and accompanying appropriate receptacles and flowers | 30.37(j) | Human remains and accompanying appropriate receptacles and flowers.
30.55(c) | Shipments from one point in the United States to another thereof by routes passing through Mexico | 30.37(c) | Shipments from one point in the United States to another point in the United States by routes passing through Canada or Mexico.
30.55(d) | Shipments from one point in Mexico to another point thereof by routes through the United States | 30.37(d) | Shipments from one point in Canada or Mexico to another point in the same country by routes through the United States.
30.55(e) | Shipments, other than by vessel, or merchandise for which no validated export licenses are required, transported inbond through the United States, and exported from another U.S. port, or transshipped and exported directly from the port of arrival | 30.2(d)(1) | Shipments, transported in-bond through the United States, and exported from another U.S. port, or transshipped and exported directly from the port of arrival.
30.55(f) | Shipments to foreign libraries, government establishments, or similar institutions, as provided in § 30.53(d) | 30.37(g) | Shipments to foreign libraries, government establishments, or similar institutions, as provided in § 30.40(d).
30.55(g) | Shipments of single gift parcels as authorized by the Bureau of Industry and Security under License Exception GFT, see 15 CFR 740.12 of the EAR | 30.37(h) | Shipments authorized by License Exception GFT for gift parcels, humanitarian donations.
30.55(h) | Except as noted in paragraph (h)(2) of this section, exports of commodities where the value of the commodities shipped from one exporter to one consignee on a single exporting carrier, classified under an individual Schedule B number, is $2,500 or less | 30.37(a) | Except as noted in § 30.2(a)(1)(iv), exports of commodities where the value of the commodities shipped USPPI to one consignee on a single exporting carrier, classified under an individual Schedule B or HTSUSA commodity classification code, is $2,500 or less.
30.55(i) | Shipments of interplant correspondence, executed invoices, and other documents and other shipments of company business records from a U.S. firm to its subsidiary or affiliate | 30.37(k) | Shipments of interplant correspondence, executed invoices, and other documents and other shipments of company business records from a U.S. firm to its subsidiary or affiliate.
30.55(j) | Shipments of pets as baggage, accompanied or unaccompanied, of persons leaving the United States, including members of crews on vessels and aircraft | 30.37(l) | Shipments of pets as baggage, accompanied or unaccompanied, of persons leaving the United States, including members of crews on vessels and aircraft.
30.55(k) | Shipments for use in connection with NASA tracking systems under Office of Export Administration Project License DL-5355-S |  | NA.
30.55(l) | Shipments of aircraft parts and equipment, and food, saloon, slop chest, and related stores, provisions, and supplies for use on aircraft by a U.S. airline to its own installations, aircraft, and agent aboard, under Department of Commerce, Office of Export Administration General License, RCS |  | NA.
30.55(m) | Shipments for use in connection with NOAA operations under the Office of Export Administration General License G-NOAA |  | NA.
30.55(n) | Exports of technology and software as defined in 15 CFR 772 of the EAR that do not require an export license | 30.37(f) | Exports of technology and software as defined in 15 CFR 772 of the EAR that do not require an export license.
30.55(o) | Intangible exports of software and technology, such as downloaded software and technical data, including technology and software that requires an export license and mass market software exported electronically | 30.2(d)(3) | Intangible exports of software and technology, such as downloaded software and technical data, including technology and software that requires an export license and mass market software exported electronically.
30.56 | Conditional Exemptions | 30.37 | Miscellaneous exemptions.
30.56(a) | Baggage and personal effects | 30.38 | Exemption from the requirements for reporting complete commodity information.
30.56(b) | Tools of trade | 30.37(b) | Tools of trade.
30.56(c) | Carriers' stores | 30.37(m) | Carriers' stores.
30.56(d) | Dunnage | 30.37(n) | Dunnage.
30.57 | Information on export declarations for shipments of types of goods covered by § 30.56 not conditionally exempt |  | NA.
30.58 | Exemption for shipments from the United States to Canada | 30.36 | Exemption for shipments destined to Canada.
Subpart E—Electronic Filing Requirements—Shipper's Export Information
30.60 | General requirements for filing export and manifest data electronically using the Automated Export System (AES) | 30.2 | General requirements for filing Electronic Export Information.
30.60(a) | Participation |  | NA.
30.60(b) | Letter of Intent | 30.5(a)(1) | Postdeparture filing application.
30.60(c) | General filing and transmission requirements | 30.4 | NA.
30.60(d) | General responsibilities of exporters, filing agents, and sea carriers— | 30.3 | Electronic Export Information filer requirements, parties to export transactions, and responsibilities of parties to export transactions.
30.61 | Electronic filing options | 30.4 | Electronic Export Information filing procedure, deadlines, and certification statement.
30.62 | AES Certification, qualifications, and standards | 30.5 | EEI filing application and certification processes and standards.
30.63 | Information required to be reported electronically through AES (data elements) | 30.6 | Electronic Export Information data elements.
30.64 | Transmitting and correcting AES information | 30.9 | Transmitting and correcting Electronic Export Information.
30.65 | Annotating the proper exemption legends or proof of filing citations for shipments transmitted electronically | 30.7 | Annotating the bill of lading, air waybill, and other commercial loading documents with the proper proof of filing citations, approved postdeparture filing citations, downtime filing citation, or exemption legends.
30.66 | Recordkeeping and requirements | 30.5(f) | Support.
30.66 | Support, documentation, and recordkeeping requirements | 30.10 | Retention of export information and the authority to require production of documents.
Subpart F—General Requirements—Importers
30.70 | Statistical information required on import entries | 30.50 | General requirements for filing import entries.
|  | 30.51 | Statistical information required for import entries.
30.80 | Imports from Canada | 30.54 | Special provisions for imports from Canada.
30.81 | Imports of merchandise into Guam |  | NA.
30.82 | Identification of U.S. merchandise returned for repair and reexport | 30.53 | Import of goods returned for repair.
30.83 | Statistical copy of mail and informal entries |  | NA.
Subpart H—General Administrative Provisions
30.90 | Confidential information, import entries, and withdrawals | 30.55 | Confidentiality information, import entries, and withdrawals.
30.91 | Confidential information, Shipper's Export Declarations | 30.60 | Confidentiality of Electronic Export Information.
30.92 | Statistical classification schedules | 30.61 | Statistical classification schedules.
30.93 | Emergency exceptions | 30.62 | Emergency exceptions.
30.94 | Instructions to CBP |  | NA.
30.95 | Penalties for violations |  | Subpart H.
30.95(a) | Exports (reexports) of rough diamonds | 30.70 | Violation of the Clean Diamond Trade Act.
30.95(b) | Exports of other than rough diamonds | 30.71 | False or fraudulent reporting.
30.99 | OMB control numbers assigned pursuant to the Paperwork Reduction Act | 30.63 | Office of Management and Budget control numbers assigned pursuant to the Paperwork Reduction Act.

36. Revise Appendix F to Part 30 to read as follows:

Appendix F to Part 30—FTR to FTSR Concordance

FTR | FTR Regulatory topic | FTSR | FTSR Regulatory topic
Subpart A—General Requirements
30.1 | Purpose and definitions | NA | NA.
30.2 | General requirements for filing Electronic Export Information | 30.1 | General statement of requirement for Shipper's Export Declarations.
30.2(a) | Filing Requirements |  | Filing Requirements.
30.2(b) | General Requirements |  | NA.
30.2(c) | Certification and filing requirements |  | NA.
30.2(d) | Exclusions from filing EEI |  | NA.
30.2(e) | Penalties |  | NA.
30.3 | Electronic Export Information filer requirements, parties to export transactions, and responsibilities of parties to export transactions | 30.4 | Preparation and signature of Shipper's Export Declaration.
30.4 | Electronic Export Information filing procedures, deadlines, and certification statements | 30.61 | Electronic filing options.
30.4(a) | EEI transmitted predeparture | 30.61(a) | EEI transmitted predeparture.
30.4(b) | Filing deadlines for EEI transmitted predeparture |  | NA.
30.4(c) | EEI transmitted postdeparture | 30.61(b) | EEI transmitted postdeparture.
30.4(d) | Proof of filing citation or exemption legend | 30.12(d) | Exports file via AES.
30.5 | Electronic Export Information filing application and certification processes and standards | 30.62 | AES Certification, qualifications, and standards.
30.5(a) | AES application process | 30.60(b) | AES Participant Application.
30.5(b) | Certification process | 30.66 | Record keeping and requirements.
30.5(c) | Postdeparture filing approval process
30.5(d) | Electronic Export Information filing standards
30.5(e) | Monitoring the filing of Electronic Export Information
30.5(f) | Support
30.6 | Electronic Export Information data elements | 30.63 | Information required to be reported electronically through AES (data elements).
30.7 | Annotating the bill of lading * * * | 30.65 | Annotating the proper exemption legends or proof of filing citations.
30.8 | Time and place for presenting proof of filing citations, postdeparture filing citations, downtime filing citation, or exemption legends | 30.12 | Time and place for presenting the SED, exemption legends, or proof of filing citations.
30.9 | Transmitting and correcting Electronic Export Information | 30.64 | Transmitting and correcting AES information.
|  | 30.16 | Corrections to Shipper's Export Declarations.
30.10(a) | Retention of Export information | 30.66 | Support, documentation and recordkeeping, and documentation requirements.
30.10(b) | Authority to require production of documents | 30.11 | Authority to require production of documents.
Subpart B—Export Control and Licensing Requirements
30.15 | Introduction | 30.2 | Related export control requirements.
30.16 | Bureau of Industry and Security regulations | 30.2 | Related export control requirements.
30.17 | Customs and Border Protection regulations | 30.2 | Related export control requirements.
30.18 | Department of State regulations | 30.2 | Related export control requirements.
30.19 | Other Federal agency regulations | 30.2 | Related export control requirements.
Subpart C—Special Provisions and Specific-Type Transactions
30.25 | Values for certain types of transactions | 30.30 | Values for certain types of transactions.
30.26 | Reporting of vessels, aircraft, cargo vans, and other carriers and containers | 30.33 | Vessels, planes, cargo vans, and other carriers and containers sold foreign.
30.27 | Return of exported cargo to the United States prior to reaching its final destination | 30.34 | Return of exported cargo to the United States prior to reaching its final destination.
30.28 | Split shipments | 30.41 | “Split shipments” by air.
30.29 | Reporting of repairs and replacements | 30.31 | Identification of certain nonstatistical and other unusual transactions.
Subpart D—Exemptions from the Requirements for the Filing of Electronic Export Information
30.35 | Procedure for shipments exempt from filing requirements | 30.50 | Procedure for shipments exempt from the requirements for SEDs.
30.36 | Exemption for shipments destined to Canada | 30.58 | Exemption for shipments from the United States to Canada.
30.37 | Miscellaneous exemptions | 30.55 | Miscellaneous exemptions.
|  | 30.55 | Conditional exemptions.
30.37(a) | Except as noted in § 30.2(a)(1)(iv), exports of commodities where the value * * * is $2,500 or less | 30.55(h) | Except as noted in paragraph h(2) of this section, exports of commodities where the value * * * is $2,500 or less.
30.37(b) | Tools of trade | 30.56(b) | Tools of trade.
30.37(c) | Shipments from one point in the United States to another point in the United States by routes passing through Canada or Mexico | 30.55(c) | Shipments from one point in the United States to another thereof by routes passing through Mexico.
|  | 30.58(a) | * * * this exemption also applies to shipments from one point in the United States or Canada to another point thereof.
30.37(d) | Shipments from one point in Canada or Mexico to another point thereof by routes through the United States | 30.55(d) | Shipments from one point in Canada or Mexico to another point in the same country by routes through the United States.
|  | 30.58(a) | * * * this exemption also applies to shipments from one point in the United States or Canada to another point thereof.
30.37(e) | Vessels, aircraft, cargo vans, and other carriers and containers | 30.55(e) | Shipments, other than by vessel, or merchandise for which no validated licenses required, transported inbond through the United States.
30.37(f) | Exports of technology and software as defined in 15 CFR of the EAR that do not require an export license | 30.55(n) | Exports of technology and software as defined in 15 CFR 772 of the EAR that do not require an export license.
30.37(g) | Shipments to foreign libraries, government establishments or similar institutions, as provided in § 30.40(d) | 30.55(f) | Shipments to foreign libraries, government establishments or similar institutions, as provided in § 30.53(d).
30.37(f) | Shipments as authorized under License Exception GFT for gift parcels and humanitarian donations | 30.55(g) | Shipments of single gift parcels as authorized by the Bureau of Industry and Security under license exception GFT.
30.37(i) | Diplomatic pouches and their contents | 30.55(a) | Diplomatic pouches and their contents.
30.37(j) | Human remains and accompanying appropriate receptacles and flowers | 30.55(b) | Human remains and accompanying appropriate receptacles and flowers.
30.37(k) | Shipments of interplant correspondence, executed invoices and other documents, and other shipments of company business records from a U.S. firm to its subsidiary or affiliate | 30.55(i) | Shipments of interplant correspondence, executed invoices and other documents, and other shipments of company business records from a U.S. firm to its subsidiary or affiliate.
30.37(l) | Shipments of pets as baggage, accompanied or unaccompanied, of persons leaving the United States, including members of crews on vessels and aircraft | 30.55(j) | Shipments of pets as baggage, accompanied or unaccompanied, of persons leaving the United States, including members of crews on vessels and aircraft.
30.37(m) | Carriers' stores | 30.56(c) | Carriers' stores.
30.37(n) | Dunnage | 30.56(d) | Dunnage.
30.37(o) | Shipments of aircraft parts and equipment; food, saloon, slop chest, and related stores | 30.55(l) | Shipments of aircraft parts and equipment; food, saloon, slop chest, and related stores.
30.37(p) | Baggage and personal effects not shipped as cargo under a bill of lading or an air waybill and not requiring an export license | 30.56(a) | Baggage and personal effects not shipped as cargo under a bill of lading or an air waybill and not requiring an export license.
30.37(q) | Issued bank notes and securities and coins in circulation exported as evidence of financial claims |  | NA.
30.37(r) | Documents used in international transactions |  | NA.
30.37(s) | Exports of technical data and defense service exemptions |  | NA.
30.38 | Exemption from the requirement for reporting complete commodity information Revised based on CBP comments | 30.56 | Conditional exemptions.
30.38(a) | Usual and reasonable kinds and quantities of wearing apparel, articles of personal adornment, toilet articles, medicinal supplies, food, souvenirs, games, and similar personal effects and their containers | 30.56(a)(1) | Usual and reasonable kinds and quantities of wearing apparel, articles of personal adornment, toilet articles, medicinal supplies, food, souvenirs, games, and similar personal effects and their containers.
30.38(b) | Usual and reasonable kinds and quantities of furniture, household effects, household furnishings, and their containers | 30.56(a)(2) | Usual and reasonable kinds and quantities of furniture, household effects, household furnishings, and their containers.
30.38(c) | Usual and reasonable kinds and quantities of vehicles, such as passenger cars, station wagons, trucks | 30.56(a)(3) | Usual and reasonable kinds and quantities of vehicles, such as passenger cars, station wagons, trucks.
30.39 | Special exemptions for shipments to the U.S. Armed Services | 30.52 | Special exemptions for shipments to the U.S. Armed Services.
30.40 | Special exemptions for certain shipments to U.S. Government agencies and employees | 30.53 | Special exemptions for certain shipments to U.S. Government agencies and employees.
Subpart E—General Carrier and Manifest Requirements
30.45 | General Statement of requirements for the filing of carrier manifests with proof of filing citations | 30.20 | General statement of requirements for the filing of manifests.
|  | 30.21 | Requirements for the filing of manifests
|  | 30.22 | Requirements for filing of Shipper's Export Declarations by departing carriers.
30.46 | Requirements for the filing of export information by pipeline carriers | 30.23 | Requirement for the filing of Shipper's Export Declarations by pipeline carriers.
30.47 | Clearance or departure of carriers under bond on incomplete manifests | 30.24 | Clearance or departure of carriers under bond on incomplete manifest.
Subpart F—Import Requirements
30.50 | General requirements for filing import entries | 30.70 | Statistical information required on import entries.
30.51 | Statistical information required for imports entries | 30.70 | Statistical information required for import entries.
30.52 | Foreign Trade Zones |  | NA.
30.53 | Import of goods returned for repair | 30.82 | Identification of U.S. merchandise returned for repair and reexport.
30.54 | Special provisions for imports from Canada | 30.80 | Imports from Canada.
30.55 | Confidential information, import entries, and withdrawals | 30.90 | Confidential information import entries, and withdrawals.
Subpart G—General Administrative Provisions
30.60 | Confidentiality of Electronic Export Information | 30.91 | Confidential information, Shipper's Export Declaration.
| 30.61 | Statistical classification schedules | 30.92 | Statistical classification schedules.
30.62 | Emergency exceptions | 30.93 | Emergency exceptions.
30.63 | Office of Management and Budget control numbers assigned pursuant to the Paperwork Reduction Act | 30.99 | OMB control numbers assigned pursuant to the Paperwork Reduction Act.
Subpart H—Penalties
30.70 | Violation of the Clean Diamond Trade Act | 30.95(a) | Penalties for violations for export (reexport) of rough diamonds.
30.71 | False or Fraudulent reporting on or misuse of the Automated Export System | 30.95(b) | Penalties for violations of exports other than diamonds.
30.71(a) | Criminal penalties
30.71(b) | Civil penalties
30.72 | Civil penalty procedures |  | NA.
30.73 | Enforcement |  | NA.
30.73(a) | Department of Commerce
30.73(b) | Department of Homeland Security
30.74 | Voluntary self-disclosure |  | NA.
30.75-30.99 | [Reserved]

Dated: December 30, 2010.
Robert M. Groves,
Director, Bureau of the Census.

[FR Doc. 2011-165 Filed 1-20-11; 8:45 am]

BILLING CODE 3510-07-P